DEPARTMENT OF STATE

Office of Oceans Affairs

[I.D. 120103G]

New Conservation Measures for Antarctic Fishing Under the Auspices of CCAMLR

AGENCY: Office of Oceans Affairs, Department of State.

ACTION: Notice.

SUMMARY: At its Twenty-Second Meeting in Hobart, Tasmania, from October 27 to November 7, 2003, the Commission for the Conservation of Antarctic Marine Living Resources (CCAMLR), of which the United States is a member, adopted conservation measures, pending countries' approval, pertaining to fishing in the CCAMLR Convention Area. All the measures were agreed upon in accordance with Article IX of the Convention for the Conservation of Antarctic Marine Living Resources. Measures adopted restrict overall catches of certain species of fish and crabs, restrict fishing in certain areas, specify implementation and inspection obligations supporting the Catch Documentation Scheme of Contracting Parties, and promote compliance with CCAMLR measures by non-Contracting Party vessels. This notice includes the full text of the conservation measures adopted at the Twenty-Second meeting of CCAMLR. For all of the conservation measures in force, see the CCAMLR Website at http://www.ccamlr.org. This notice, therefore, together with the U.S. regulations referenced under the SUPPLEMENTARY INFORMATION provides a comprehensive register of all current U.S. obligations under CCAMLR.

DATES: Persons wishing to comment on the measures or desiring more information should submit written comments by January 20, 2004.

FOR FURTHER INFORMATION CONTACT: Matthew V. Cassetta, Office of Oceans Affairs (OES/OA), Room 5805, Department of State, Washington, DC 20520; tel: 202-647-3947; fax: 202-647-9099; e-mail: cassettamv@state.gov.

SUPPLEMENTARY INFORMATION: Individuals interested in CCAMLR should also see 15 CFR Chapter III-International Fishing and Related Activities, Part 300-International Fishing Regulations, Subpart A-General; Subpart B-High Seas Fisheries; and Subpart G-Antarctic Marine Living Resources, for other regulatory measures related to conservation and management in the CCAMLR Convention area. Subpart B notes the requirements for high seas fishing vessel licensing. Subparts A and G describe the process for regulating U.S. fishing in the CCAMLR Conventional area and contain the text of CCAMLR Conservation Measures that are not expected to change from year to year. The regulations in Subparts A and G include sections on; Purpose and scope; Definitions; Relationship to other treaties, conventions, laws and regulations; Procedure for according protection to CCAMLR Ecosystem Monitoring Program Sites; Scientific Research; Initiating a new fisher; Exploratory fisheries; Reporting and record keeping requirements; Vessel and gear identification; Gear disposal; Mesh Size; Harvesting permits; Import permits; Appointment of a designated representative; Prohibitions; Facilitation of enforcement and inspection; and Penalties.

The Commission agreed that the following conservation measures will remain in force in 2003/04: compliance: 10-01 (1998), 10-02 (2001), 10-03 (2002), 10-04 (2002) and 10-06 (2002); general fishery matters: 21-01 (2002), 21-02 (2002), 22-01 (1986), 22-02 (1984), 22-03 (2002), 23-02 (1993), 23-03 (1991), 23-04 (2000), 23-05 (2000), 23-06 (2002), 25-01 (1996), 31-01 (1986), 32-01 (2001), 32-02 (1998), 32-03 (1998), 32-04 (1986), 32-05 (1986), 32-06 (1985), 32-07 (1999), 32-08 (1997), 32-10 (2002), 32-11 (2002), 32-12 (1998), 33-01 (1995), 41-03 (1999), 51-01 (2002), 51-02 (2002) and 51-03 (2002); protected areas: 91-01 (2002), 91-02 (2002) and 91-03 (2002).

At its twenty-second meeting in Hobart, Tasmania, the Commission agreed that the following resolutions will remain in force in 2003/04: Resolutions 7/IX, 10/XII, 14/XIX, 16/XIX, 17/XX, 18/XXI and 19/XXI. The Commission had also considered the implementation of a C-VMS. Although significant progress had been made, the Commission did not reach consensus at the most recent meeting. As a result, Conservation Measure 10-04 and Resolution 16/XIX remain in force.

New and Revised Conservation Measures. The Commission revised the following conservation measures at its twenty-second meeting: compliance: 10-05 (2002) and 10-07 (2002); general fishery matters: 23-01 (2000), 24-01 (2002), 24-02 (2002), 25-02 (2002) and 25-03 (1999). In addition, thirty-four measures and two resolutions were adopted at the twenty-second meeting follow. For further information, see the CCAMLR web site at http://www.ccamlr.org under Publications for the Schedule of Conservation Measures in Force (2003/2004), or contact the Commission at the CCAMLR Secretariat, P.O. Box 213, North Hobart, Tasmania 7002, Australia. Tel: (61) 3-6234-9965.

CONSERVATION MEASURES AND RESOLUTIONS ADOPTED AT CCAMLR-XXII

CONSERVATION MEASURE 10-05 (2003)

Catch Documentation Scheme for Dissostichus spp.

[only paragraphs A5. and A9. of Annex 10-05/A of this measure were revised]

The Commission,

Concerned that illegal, unregulated and unreported (IUU) fishing for Dissostichus spp. in the Convention Area threatens serious depletion of populations of Dissostichus spp.,Aware that IUU fishing involves significant by-catch of some Antarctic species, including endangered albatross,

Noting that IUU fishing is inconsistent with the objective of the Convention and undermines the effectiveness of CCAMLR conservation measures,

Underlining the responsibilities of Flag States to ensure that their vessels conduct their fishing activities in a responsible manner,

Mindful of the rights and obligations of Port States to promote the effectiveness of regional fishery conservation measures,

Aware that IUU fishing reflects the high value of, and resulting expansion in markets for and international trade in, Dissostichus spp.,

Recalling that Contracting Parties have agreed to introduce classification codes for Dissostichus spp. at a national level,

Recognizing that the implementation of a Catch Documentation Scheme for Dissostichus spp. will provide the Commission with essential information necessary to provide the precautionary management objectives of the Convention,

Committed to take steps, consistent with international law, to identify the origins of Dissostichus spp. entering the markets of Contracting Parties and to determine whether Dissostichus spp. harvested in the Convention Area that is imported into their territories was caught in a manner consistent with CCAMLR conservation measures,

Wishing to reinforce the conservation measures already adopted by the Commission with respect to Dissostichus spp.,

Inviting non-Contracting Parties whose vessels fish for Dissostichus spp. to participate in the Catch Documentation Scheme for Dissostichus spp., hereby adopts the following conservation measure in accordance with Article IX of the Convention:

1. Each Contracting Party shall take steps to identify the origin of Dissostichus spp. imported into or exported from its territories and to determine whether Dissostichus spp. harvested in the Convention Area that is imported into or exported from its territories was caught in a manner consistent with CCAMLR conservation measures.

2. Each Contracting Party shall require that each master or authorized representative of its flag vessels authorized to engage in harvesting of Dissostichus eleginoides and/or Dissostichus mawsoni complete a Dissostichus catch document for the catch landed or transhipped on each occasion that it lands or tranships Dissostichus spp.

3. Each Contracting Party shall require that each landing of Dissostichus spp. at its ports and each transhipment of Dissostichus spp. to its vessels be accompanied by a completed Dissostichus catch document.

4. Each Contracting Party shall, in accordance with their laws and regulations, require that their flag vessels which intend to harvest Dissostichus spp., including on the high seas outside the Convention Area, are provided with specific authorization to do so. Each Contracting Party shall provide Dissostichus catch document forms to each of its flag vessels authorized to harvest Dissostichus spp. and only to those vessels.

5. A non-Contracting Party seeking to cooperate with CCAMLR by participating in this scheme may issue Dissostichus catch document forms, in accordance with the procedures specified in paragraphs 6 and 7, to any of its flag vessels that intend to harvest Dissostichus spp.

6. The Dissostichus catch document shall include the following information:

(i) the name, address, telephone and fax numbers of the issuing authority;

(ii) the name, home port, national registry number, and call sign of the vessel and, if issued, its IMO/Lloyd's registration number;

(iii) the reference number of the license or permit, whichever is applicable, that is issued to the vessel;

(iv) the weight of each Dissostichus species landed or transhipped by product type, and

(a) by CCAMLR statistical subarea or division if caught in the Convention Area; and/or

(b) by FAO statistical area, subarea or division if caught outside the Convention Area;

(v) the dates within which the catch was taken;

(vi) the date and the port at which the catch was landed or the date and the vessel, its flag and national registry number, to which the catch was transhipped; and

(vii) the name, address, telephone and fax numbers of the recipient(s) of the catch and the amount of each species and product type received.

7. Procedures for completing Dissostichus catch documents in respect of vessels are set forth in paragraphs A1 to A10 of Annex 10-05/A to this measure. The standard catch document is attached to the annex.

8. Each Contracting Party shall require that each shipment of Dissostichus spp. imported into or exported from its territory be accompanied by the export-validated Dissostichus catch document(s) and, where appropriate, validated re-export document(s) that account for all the Dissostichus spp. contained in the shipment.

9. An export-validated Dissostichus catch document issued in respect of a vessel is one that:

(i) includes all relevant information and signatures provided in accordance with paragraphs A1 to A11 of Annex 10-05/A to this measure; and

(ii) includes a signed and stamped certification by a responsible official of the exporting State of the accuracy of the information contained in the document.

10. Each Contracting Party shall ensure that its customs authorities or other appropriate officials request and examine the documentation of each shipment of Dissostichus spp. imported into or exported from its territory to verify that it includes the export-validated

Dissostichus catch document(s) and, where appropriate, validated re-export

document(s) that account for all the Dissostichus spp. contained in the shipment. These officials may also examine the content of any shipment to verify the information contained in the catch document or documents.

11. If, as a result of an examination referred to in paragraph 10 above, a question arises regarding the information contained in a Dissostichus catch document or a re-export document the exporting State whose national authority validated the document(s) and,

as appropriate, the Flag State whose vessel completed the document are called on to cooperate with the importing State with a view to resolving such question.

12. Each Contracting Party shall promptly provide by the most rapid electronic means copies to the CCAMLR Secretariat of all export-validated Dissostichus catch documents and, where relevant, validated re-export documents that it issued from and received into its territory and shall report annually to the Secretariat data, drawn from such documents, on the origin and amount of Dissostichus spp. exported from and imported into its territory.

13. Each Contracting Party, and any non-Contracting Party that issues Dissostichus catch documents in respect of its flag vessels in accordance with paragraph 5, shall inform the CCAMLR Secretariat of the national authority or authorities (including names, addresses, phone and fax numbers and email addresses) responsible for issuing and validating Dissostichus catch documents.

14. Notwithstanding the above, any Contracting Party, or any non-Contracting Party participating in the Catch Documentation Scheme, may require additional verification of catch documents by Flag States by using, inter alia, VMS, in respect of catches¹ taken on the high seas outside the Convention Area, when landed at, imported into or exported from its territory.

¹ Excluding by-catches of Dissostichus spp. by trawlers fishing on the high seas outside the Convention Area. A by-catch shall be defined as no more than 5% of total catch of all species and no more than 50 tons for an entire fishing trip by a vessel.

15. If a Contracting Party participating in the CDS has cause to sell or dispose of seized or confiscated Dissostichus spp., it may issue a Specially Validated Dissostichus Catch Document (SVDCD) specifying the reasons for that validation. The SVDCD shall include a statement describing the circumstances under which confiscated fish are moving in trade. To the extent practicable, Parties shall ensure that no financial benefit arising from the sale of seized or confiscated catch accrue to the perpetrators of IUU fishing. If a Contracting Party issues a SVDCD, it shall immediately report all such validations to the Secretariat for conveying to all Parties and, as appropriate, recording in trade statistics.

16. A Contracting Party may transfer all or part of the proceeds from the sale of seized or confiscated Dissostichus spp. into the CDS Fund created by the Commission or into a national fund which promotes achievement of the objectives of the Convention. A Contracting Party may, consistent with its domestic legislation, decline to provide a market for toothfish offered for sale with a SVDCD by another State. Provisions concerning the uses of the CDS Fund are found in Annex B.

ANNEX 10-05/A

A1. Each Flag State shall ensure that each Dissostichus catch document form that it issues includes a specific identification number consisting of:

(i) a four-digit number, consisting of the two-digit International Standards Organization (ISO) country code plus the last two digits of the year for which the form is issued; and

(ii) a three-digit sequence number (beginning with 001) to denote the order in which catch document forms are issued.

It shall also enter on each Dissostichus catch document form the number as appropriate of the license or permit issued to the vessel.

A2. The master of a vessel which has been issued a Dissostichus catch document form or forms shall adhere to the following procedures prior to each landing or transhipment of Dissostichus spp.:

(i) the master shall ensure that the information specified in paragraph 6 of this conservation measure is accurately recorded on the Dissostichus catch document form;

(ii) if a landing or transhipment includes catch of both Dissostichus spp., the master shall record on the Dissostichus catch document form the total amount of the catch landed or transhipped by weight of each species;

(iii) if a landing or transhipment includes catch of Dissostichus spp. taken from different statistical subareas and/or divisions, the master shall record on the Dissostichus catch document form the amount of the catch by weight of each species taken from each statistical subarea and/or division and indicating whether the catch was caught in an EEZ or on the high seas, as appropriate; and

(iv) the master shall convey to the Flag State of the vessel by the most rapid electronic means available, the Dissostichus catch document number, the dates within which the catch was taken, the species, processing type or types, the estimated weight to be landed and the area or areas of the catch, the date of landing or transhipment and the port and country of landing or vessel of transhipment and shall request from the Flag State, a Flag State confirmation number.

A3. If, for catches² taken in the Convention Area or on the high seas outside the Convention Area, the Flag State verifies, by the use of a VMS (as described in paragraphs 5 and 6 of Conservation Measure 10-04), the area fished and that the catch to be landed or transhipped as reported by its vessel is accurately recorded and taken in a manner consistent with its authorization to fish, it shall convey a unique Flag State confirmation number to the vessel's master by the most rapid electronic means available. The Dissostichus catch document will receive a confirmation number from the Flag State, only when it is convinced that the information submitted by the vessel fully satisfies the provisions of this conservation measure.

² Excluding by-catches of Dissostichus spp. by trawlers fishing on the high seas outside the Convention Area. A by-catch shall be defined as no more than 5% of total catch of all species and no more than 50 tons for an entire fishing trip by a vessel.

A4. The master shall enter the Flag State confirmation number on the Dissostichus catch document form.

A5. The master of a vessel that has been issued a Dissostichus catch document form or forms shall adhere to the following procedures immediately after each landing or transhipment of Dissostichus spp.:

(i) in the case of a transhipment, the master shall confirm the transhipment obtaining the signature on the Dissostichus catch document of the master of the vessel to which the catch is being transferred;

(ii) in the case of a landing, the master or authorized representative shall confirm the landing by obtaining a signed and stamped certification on the Dissostichus catch document by a responsible official of the Port State of landing or free trade zone who is acting under the direction of either the customs or fisheries authority of the Port State and is competent with regard to the validation of Dissostichus catch documents;

(iii) in the case of a landing, the master or authorized representative shall also obtain the signature on the Dissostichus catch document of the individual that receives the catch at the port of landing or free trade zone;

(iv) in the event that the catch is divided upon landing, the master or authorized representative shall present a copy of the Dissostichus catch document to each individual that receives a part of the catch at the port of landing or free trade zone, record on that copy of the catch document the amount and origin of the catch received by that individual and obtain the signature of that individual.

A6. In respect of each landing or transhipment, the master or authorized representative shall immediately sign and convey by the most rapid electronic means available a copy, or, if the catch landed was divided, copies, of the signed Dissostichus catch document to the Flag State of the vessel and shall provide a copy of the relevant document to each recipient of the catch.

A7. The Flag State of the vessel shall immediately convey by the most rapid electronic means available a copy or, if the catch was divided, copies, of the signed Dissostichus catch document to the CCAMLR Secretariat to be made available by the next working day to all Contracting Parties.

A8. The master or authorized representative shall retain the original copies of the signed Dissostichus catch document(s) and return them to the Flag State no later than one month after the end of the fishing season.

A9. The master of a vessel to which catch has been transhipped (receiving vessel) shall adhere to the following procedures immediately after each landing of such catch in order to complete each Dissostichus catch document received from transhipping vessels:

(i) the master of the receiving vessel shall confirm the landing by obtaining a signed and stamped certification on the Dissostichus catch document by a responsible official of the Port State of landing or free trade zone who is acting under the direction of either the customs or fisheries authority of the Port State and is competent with regard to the validation of Dissostichus catch documents;

(ii) the master of the receiving vessel shall also obtain the signature on the Dissostichus catch document of the individual that receives the catch at the port of landing or free trade;

(iii) in the event that the catch is divided upon landing, the master of the receiving vessel shall present a copy of the Dissostichus catch document to each individual that receives a part of the catch at the port of landing or free trade zone, record on that copy of the catch document the amount and origin of the catch received by that individual and obtain the signature of that individual.

A10. In respect of each landing of transhipped catch, the master or authorized representative of the receiving vessel shall immediately sign and convey by the most rapid electronic means available a copy of all the Dissostichus catch documents, or if the catch was divided, copies, of all the Dissostichus catch documents, to the Flag State(s) that issued the Dissostichus catch document, and shall provide a copy of the relevant document to each recipient of the catch. The Flag State of the receiving vessel shall immediately convey by the most rapid electronic means available a copy of the document to the CCAMLR Secretariat to be made available by the next working day to all Contracting Parties.

A11. For each shipment of Dissostichus spp. to be exported from the country of landing, the exporter shall adhere to the following procedures to obtain the necessary export validation of the Dissostichus catch document(s) that account for all the Dissostichus spp. contained in the shipment:

(i) the exporter shall enter on each Dissostichus catch document the amount of each Dissostichus spp. reported on the document that is contained in the shipment;

(ii) the exporter shall enter on each Dissostichus catch document the name and address of the importer of the shipment and the point of import;

(iii) the exporter shall enter on each Dissostichus catch document the exporter's name and address, and shall sign the document; and

(iv) the exporter shall obtain a signed and stamped validation of the Dissostichus catch document by a responsible official of the exporting State.

A12. In the case of re-export, the re-exporter shall adhere to the following procedures to obtain the necessary re-export validation of the Dissostichus catch document(s) that account for all the Dissostichus spp. contained in the shipment:

(i) the re-exporter shall supply details of the net weight of product of all species to be re-exported, together with the Dissostichus catch document number to which each species and product relates;

(ii) the re-exporter shall supply the name and address of the importer of the shipment, the point of import and the name and address of the exporter;

(iii) the re-exporter shall obtain a signed and stamped validation of the above details by the responsible official of the exporting State on the accuracy of information contained in the document(s); and

(iv) the responsible official of the exporting state shall immediately transmit by the most rapid electronic means a copy of the re-export document to the Secretariat to be made available next working day to all Contracting Parties.

ANNEX 10-05/B

THE USE OF THE CDS FUND

B1. The purpose of the CDS Fund ('the Fund') is to enhance the capacity of the Commission in improving the effectiveness of the CDS and by this, and other means, to prevent, deter and eliminate IUU fishing in the Convention Area.

B2. The Fund will be operated according to the following provisions:

(i) The Fund shall be used for special projects, or special needs of the Secretariat if the Commission so decides, aimed at assisting the development and improving the effectiveness of the CDS. The Fund may also be used for special projects and other activities contributing to the prevention, deterrence and elimination of IUU fishing in the Convention Area, and for other such purposes as the Commission may decide.

(ii) The Fund shall be used primarily for projects conducted by the Secretariat,although the participation of Members in these projects is not precluded. While individual Member projects may be considered, this shall not replace the normal responsibilities of Members of the Commission. The Fund shall not be used for outine Secretariat activities.

(iii) Proposals for special projects may be made by Members, by the Commission or the Scientific Committee and their subsidiary bodies, or by the Secretariat. Proposals shall be made to the Commission in writing and be accompanied by an explanation of the proposal and an itemized statement of estimated expenditure.

(iv) The Commission will, at each annual meeting, designate six Members to serve on a Review Panel to review proposals made intersessionally and to make recommendations to the Commission on whether to fund special projects or special needs. The Review Panel will operate by email intersessionally and meet during the first week of the Commission's annual meeting.

(v) The Commission shall review all proposals and decide on appropriate projects and funding as a standing agenda item at its annual meeting.

(vi) The Fund may be used to assist Acceding States and non-Contracting Parties that wish to cooperate with CCAMLR and participate in the CDS, so long as this use is consistent with provisions (i) and (ii) above. Acceding States and non-Contracting Parties may submit proposals if the proposals are sponsored by, or in cooperation with, a Member.

(vii) The Financial Regulations of the Commission shall apply to the Fund, except in so far as these provisions provide or the Commission decides otherwise.

(viii) The Secretariat shall report to the annual meeting of the Commission on the activities of the Fund, including its income and expenditure. Annexed to the report shall be reports on the progress of each project being funded by the Fund, including details of the expenditure on each project. The report will be circulated to Members in advance of the annual meeting.

(ix) Where an individual Member project is being funded according to provision (ii), that Member shall provide an annual report on the progress of the project, including details of the expenditure on the project. The report shall be submitted to the Secretariat in sufficient time to be circulated to Members in advance of the annual meeting. When the project is completed, that Member shall provide a final statement of account certified by an auditor acceptable to the Commission.

(x) The Commission shall review all ongoing projects at its annual meeting as a standing agenda item and reserves the right, after notice, to cancel a project at any time should it decide that it is necessary. Such a decision shall be exceptional, and shall take into account progress made to date and likely progress in the future, and shall in any case be preceded by an invitation from the Commission to the project coordinator to present a case for continuation of funding.

(xi) The Commission may modify these provisions at any time.

CONSERVATION MEASURE 10-07 (2003)

Scheme to Promote Compliance by Non-Contracting Party Vessels with CCAMLR Conservation Measures

1. The Contracting Parties request non-Contracting Parties to cooperate fully with the Commission with a view to ensuring that the effectiveness of CCAMLR conservation measures is not undermined.

2. At each annual meeting the Commission shall identify those non-Contracting Parties whose vessels are engaged in illegal, unregulated and unreported (IUU) fishing activities in the Convention Area that threaten to undermine the effectiveness of CCAMLR conservation measures, and shall establish a list of such vessels (IUU Vessel List), in accordance with the procedures and criteria set out hereafter.

3. A non-Contracting Party vessel which has been sighted engaging in fishing activities in the Convention Area or which has been denied port access, landing or transhipment in accordance with Conservation Measure 10-03 is presumed to be undermining the effectiveness of CCAMLR conservation measures. In the case of any transhipment activities involving a sighted non-Contracting Party vessel inside or outside the Convention Area, the presumption of undermining the effectiveness of CCAMLR conservation measures applies to any other non-Contracting Party vessel which has engaged in such activities with that vessel.

4. When the non-Contracting Party vessel referred to in paragraph 3 enters a port of any Contracting Party, it shall be inspected by authorized Contracting Party officials in accordance with Conservation Measure 10-03 and shall not be allowed to land or tranship any fish species subject to CCAMLR conservation measures it might be holding on board unless the vessel establishes that the fish were caught in compliance with all relevant CCAMLR conservation measures and requirements under the Convention.

5. The Contracting Party which sights the non-Contracting Party vessel or denies it port access, landing or transhipment under paragraph 3 shall attempt to inform the vessel it is presumed to be undermining the objective of the Convention and that this information will be distributed to all Contracting Parties and to the Secretariat, and to the Flag State of the vessel.

6. Information regarding such sightings or denial of port access, landings or transhipments, and the results of all inspections conducted in the ports of Contracting Parties, and any subsequent action shall be transmitted immediately to the Commission in accordance with Article XXII of the Convention. The Secretariat shall transmit this information to all Contracting Parties, within one business day of receiving this information, and to the Flag State of the sighted vessel as soon as possible. At this time, the Secretariat shall, in consultation with the Chair of the Commission, request the Flag State concerned that, where appropriate, measures be taken in accordance with its applicable laws and regulations to ensure that the vessel or vessels in question desist from any activities that undermine the effectiveness of CCAMLR conservation measures, and that the Flag State report back to CCAMLR on the results of such enquiries and/or on the measures it has taken in respect of the vessel or vessels concerned.

7. Contracting Parties may at any time submit to the Executive Secretary any additional information, which might be relevant for the identification of non-Contracting Party vessels that might be carrying out IUU fishing activities in the Convention Area.

8. The Standing Committee on Implementation and Compliance (SCIC) shall review the information received pursuant to paragraphs 5,6 and 7and any other information provided during its annual deliberations which may be considered relevant to this review.

9. Following the review referred to in paragraph 8, SCIC shall submit to the Commission for approval, a proposed IUU Vessel List.

10. The Executive Secretary, SCIC and the Commission shall undertake each year the procedures set out in this conservation measure in respect of adding or removing vessels from the IUU Vessel List. In this regard, SCIC shall recommend that the Commission removes vessels from the list approved in a previous annual meeting if the relevant Flag State satisfies the Commission that:

(a) the vessel did not take part in IUU fishing activities described in paragraph 2; or

(b) it has taken effective action in response to the IUU fishing activities in question, including prosecution and imposition of sanctions of adequate severity; or

(c) the vessel has changed ownership and that the new owner can establish the previous owner no longer has any legal, financial, or real interests in the vessel, or exercises control over it and that the new owner has not participated in IUU fishing; or

(d) the Flag State has taken measures considered sufficient to ensure the granting of the right to the vessel to fly its flag will not result in IUU fishing.

11. Contracting Parties shall take all necessary measures, to the extent possible in accordance with their applicable legislation, in order that:

(a) the issuance of a licence to vessels included in the IUU Vessel List to fish in waters under their fisheries jurisdiction is prohibited;

(b) fishing vessels, support vessels, mother-ships and cargo vessels flying their flag do not participate in any transhipment or joint fishing operations with vessels registered in the IUU Vessel List;

(c) vessels appearing in the IUU Vessel List that enter ports are not authorized to land or tranship therein and are inspected in accordance with Conservation Measure 10-03 on so entering;

(d) the chartering of vessels included in the IUU Vessel List is prohibited;

(e) granting of their flag to vessels appearing in the IUU Vessel List is refused;

(f) imports of Dissostichus spp. from vessels included in the IUU Vessel List are prohibited;

(g) 'Export or Re-export Government Authority Validation' is not verified when the shipment (of Dissostichus spp.) is declared to have been caught by any vessel included in the IUU Vessel List;

(h) importers, transporters and other sectors concerned, are encouraged to refrain from negotiating and from transhipping of fish caught by vessels appearing in the IUU Vessel List;

(i) any appropriate information is collected and exchanged with other Contracting Parties or cooperating non-Contracting Parties, entities or fishing entities with the aim of detecting, controlling and preventing the use of false import/export certificates regarding fish from vessels appearing in the IUU Vessel List.

12. The Executive Secretary shall place the IUU Vessel List on a secure section of the CCAMLR website.

13. The Commission shall request those non-Contracting Parties identified pursuant to paragraph 2, to immediately take steps to address the IUU fishing activities of the vessels flying their flag that have been included in the IUU Vessel List, including if necessary, the withdrawal of the registration or of the fishing licenses of these vessels, the nullification of the relevant catch documents and denial of further access to the Catch Documentation Scheme for Dissostichus spp. (CDS), and to inform the Commission of the measures taken in this respect.

14. Contracting Parties shall jointly and/or individually request non-Contracting Parties identified pursuant to paragraph 2, to cooperate fully with the Commission in order to avoid undermining the effectiveness of conservation measures adopted by the Commission.

15. The Commission shall review, at subsequent annual meetings as appropriate, actions taken by those non-Contracting Parties identified pursuant to paragraph 2 to which requests have been made pursuant to paragraphs 13 and 14, and identify those which have not rectified their fishing activities.

16. The Commission shall decide appropriate measures to be taken in respect to Dissostichus spp. so as to address these issues with those identified non-Contracting Parties. In this respect, non-Contracting Parties may cooperate to adopt appropriate multilaterally agreed trade-related measures, consistent with the World Trade Organization (WTO), that may be necessary to prevent, deter and eliminate the IUU fishing activities identified by the Commission. Multilateral trade-related measures may be used to support cooperative efforts to ensure that trade in Dissostichus spp. and its products does not in any way encourage IUU fishing or otherwise undermine the effectiveness of CCAMLR's conservation measures which are consistent with the United Nations Convention on the Law of the Sea 1982.

CONSERVATION MEASURE 23-01 (2003)

Five-day Catch and Effort Reporting System

This conservation measure is adopted in accordance with Conservation Measure 31-01 where appropriate:

1. For the purposes of this Catch and Effort Reporting System the calendar month shall be divided into six reporting periods, viz: day 1 to day 5, day 6 to day 10, day 11 to day 15, day 16 to day 20, day 21 to day 25 and day 26 to the last day of the month. These reporting periods are hereinafter referred to as periods A, B, C, D, E and F.

2. At the end of each reporting period, each Contracting Party shall obtain from each of its vessels its total catch and total days and hours fished for that period and shall, by cable, telex or facsimile, transmit the aggregated catch and days and hours fished for its vessels. The catch and effort data shall reach the Executive Secretary not later than five (5) days after the end of the reporting period, or in the case of exploratory fisheries, not later than two (2) working days after the end of the reporting period. In the case of longline fisheries, the number of hooks shall also be reported.

3. A report must be submitted by every Contracting Party taking part in the fishery for each reporting period for the duration of the fishery even if no catches are taken.

4. The catch of all species, including by-catch species, must be reported.

5. Such reports shall specify the month and reporting period (A, B, C, D, E or F) to which each report refers.

6. Immediately after the deadline has passed for receipt of the reports for each period, the Executive Secretary shall notify all Contracting Parties engaged in fishing activities in the area, of the total catch taken during the reporting period, the total aggregate catch for the season to date together with an estimate of the date upon which the total allowable catch is likely to be reached for that season. In the case of exploratory fisheries, the Executive Secretary shall also notify total aggregate catch for the season to date in each small-scale research unit (SSRU) together with an estimate of the date upon which the total allowable catch is likely to be reached in each SSRU for that season. Estimates shall be based on a projection forward of the trend in daily catch rates,obtained using linear regression techniques from a number of the most recent catch reports.

7. At the end of every six reporting periods, the Executive Secretary shall inform all Contracting Parties of the total catch taken during the six most recent reporting periods, the total aggregate catch for the season to date together with an estimate of the date upon which the total allowable catch is likely to be reached for that season.

8. If the estimated date of completion of the total allowable catch, is within five days of the date on which the Secretariat received the report of the catches, the Executive Secretary shall inform all Contracting Parties that the fishery will close on that estimated day or on the day on which the report was received, whichever is the later. In the case of exploratory fisheries, if the estimated date of completion of the catch in any SSRU is within five days of the day on which the Secretariat received the report of catches, the Executive Secretary shall additionally inform all Contracting Parties that fishing in that SSRU will be prohibited from that calculated day, or on the day on which the report was received, whichever is the later.

9. Should a Contracting Party fail to transmit a report to the Executive Secretary in the appropriate form by the deadline specified in paragraph 2, the Executive Secretary shall issue a reminder to the Contracting Party. If at the end of a further two five-day periods, or, in the case of exploratory fisheries, a further one five-day period, those data have still not been provided, the Executive Secretary shall notify all Contracting Parties of the closure of the fishery to the vessel which has failed to supply the data as required and the Contracting Party concerned shall require the vessel to cease fishing. If the Executive Secretary is notified by the Contracting Party that the failure of the vessel to report is due to technical difficulties, the vessel may resume fishing once the report or explanation concerning the failure has been submitted.

CONSERVATION MEASURE 24-01 (2003)³,⁴

The Application of Conservation Measures to Scientific Research[only Annex 24-01/B of this measure was revised]

This conservation measure governs the application of conservation measures to scientific research and is adopted in accordance with Article IX of the Convention.

³ Except for waters adjacent to the Kerguelen and Crozet Islands

⁴ Except for waters adjacent to the Prince Edward Islands

1. General application:

(a) Catches taken by any vessel for research purposes will be considered as part of any catch limits in force for each species taken, and shall be reported to CCAMLR as part of the annual STATLANT returns.

(b) The CCAMLR within-season catch and effort reporting systems shall apply whenever the catch within a specified reporting period exceeds five tons, unless more specific regulations apply to the particular species.

2. Application to vessels taking less than 50 tons of finfish including no more than the amounts specified for finfish taxa in Annex 24-01/B and less than 0.1% of a given catch limit for non-finfish taxa indicated in Annex 24-01/B:

(a) Any Member planning to use a vessel for research purposes when the estimated catch is as above shall notify the Secretariat of the Commission which in turn will notify all Members immediately, according to the format provided in Annex 24-01/A. This notification shall be included in the Members' Activities Reports.

(b) Vessels to which the provisions of paragraph 2(a) above apply, shall be exempt from conservation measures relating to mesh size regulations, prohibition of types of gear, closed areas, fishing seasons and size limits, and reporting system requirements other than those specified in paragraphs 1(a) and (b) above.

3. Application to vessels taking more than 50 tons of finfish or more than the amounts specified for finfish taxa in Annex 24-01/B or more than 0.1% of a given catch limit for non-finfish taxa indicated in Annex 24-01/B:

(a) Any Member planning to use any type of vessel to conduct fishing for research purposes when the estimated catch is as above, shall notify the Commission and provide the opportunity for other Members to review and comment on its research plan. The plan shall be provided to the Secretariat for distribution to Members at least six months in advance of the planned starting date for the research. In the event of any request for a review of such plan being lodged within two months of its circulation, the Executive Secretary shall notify all Members and submit the plan to the Scientific Committee for review. Based on the submitted research plan and any advice provided by the appropriate working group, the Scientific Committee will provide advice to the Commission where the review process will be concluded. Until the review process is complete the planned fishing for research purposes shall not proceed.

(b) Research plans shall be reported in accordance with the standardized guidelines and formats adopted by the Scientific Committee, given in Annex 24-01/A.

(c) A summary of the results of any research subject to these provisions shall be provided to the Secretariat within 180 days of the completion of the research fishing. A full report shall be provided within 12 months.

(d) Catch and effort data resulting from research fishing in accordance with paragraph (a) above, should be reported to the Secretariat according to the haul-by-haul reporting format for research vessels (C4).

CONSERVATION MEASURE 24-02 (2003)

Experimental Line-weighting Trials

In respect of fisheries in Statistical Subareas 48.6, 88.1 and 88.2 and Divisions 58.4.1, 58.4.2, 58.4.3a, 58.4.3b and 58.5.2, paragraph 3 of Conservation Measure 25-02 shall not apply only where a vessel can demonstrate, prior to entry into force of the license for this fishery and prior to entering the Convention Area, its ability to fully comply with either of the following experimental protocols.

Protocol A:

A1. The vessel shall, under observation by a scientific observer:

(i) set a minimum of five longlines with a minimum of four Time Depth Recorders (TDR) on each line;

(ii) randomize TDR placement on the longline within and between sets;

(iii) calculate an individual sink rate for each TDR when returned to the vessel, where:

(a) the sink rate shall be measured as an average of the time taken to sink from the surface (0 m) to 15 m;

(b) this sink rate shall be at a minimum rate of 0.3 m/s;

(iv) if the minimum sink rate is not achieved at all 20 sample points, repeat the test until such time as a total of 20 tests with a minimum sink rate of 0.3 m/s are recorded;

(v) all equipment and fishing gear used in the tests is to be the same as that to be used in the Convention Area.

A2. During fishing, for a vessel to maintain the exemption to night-time setting requirements, continuous line sink monitoring shall be undertaken by the CCAMLR scientific observer. The vessel shall cooperate with the CCAMLR observer who shall:

(i) aim to place a TDR on every longline set during the observer's shift;

(ii) every seven days place all available TDRs on a single longline to determine any sink rate variation along the line;

(iii) randomize TDR placement on the longline within and between sets;

(iv) calculate an individual rate for each TDR when returned to the vessel;

(v) measure the sink rate as an average of the time taken to sink from the surface (0 m) to 15 m.

A3. The vessel shall:

(i) ensure the average sink rate is at a minimum of 0.3 m/s;

(ii) report daily to the fishery manager;

(iii) ensure that data collected from line sink trials is recorded in the approved format and submitted to the fishery manager at the conclusion of the season.

Protocol B:

B1. The vessel shall, under observation by a scientific observer:(i) set a minimum of five longlines of the maximum length to be used in the Convention Area with a minimum of four bottle tests (see paragraphs B5 to B9)on the middle one-third of the longline;

(ii) randomize bottle test placement on the longline within and between sets, noting that all tests should be applied halfway between weights;

(iii) calculate an individual sink rate for each bottle test, where the sink rate shall be measured as the time taken for the longline to sink from the surface (0 m) to 10 m;

(iv) this sink rate shall be at a minimum rate of 0.3 m/s;

(v) if the minimum sink rate is not achieved at all 20 sample points (four tests on five lines), continue testing until such time as a total of 20 tests with a minimum sink rate of 0.3 m/s are recorded;

(vi) all equipment and fishing gear used in the tests is to be to the same specifications as that to be used in the Convention Area.

B2. During fishing, for a vessel to maintain the exemption to paragraph 3 of Conservation Measure 25-02, regular line sink rate monitoring shall be undertaken by the CCAMLR scientific observer. The vessel shall cooperate with the CCAMLR observer who shall:

(i) aim to conduct a bottle test on every longline set during the observer's shift, noting that the test should be undertaken on the middle one-third of the line;

(ii) every seven days place at least four bottle tests on a single longline to determine any sink rate variation along the line;

(iii) randomize bottle test placement on the longline within and between sets, noting that all tests should be applied halfway between weights;

(iv) calculate an individual sink rate for each bottle test;

(v) measure the line sink rate as the time taken for the line to sink from the surface (0 m) to 10 m.

B3. The vessel shall whilst operating under this exemption:

(i) ensure that all longlines are weighted to achieve a minimum line sink rate of 0.3 m/s at all times;

(ii) report daily to its national agency on the achievement of this target;

(iii) ensure that data collected from line sink rate monitoring are recorded in the approved format and submitted to the relevant national agency at the conclusion of the season.

B4. A bottle test is to be conducted as described below.

Bottle Set Up

B5. 10 m of 2 mm multifilament nylon snood twine, or equivalent, is securely attached to the neck of a 750 ml plastic bottle⁵ (buoyancy about 0.7 kg) with a longline clip attached to the other end. The length measurement is taken from the attachment point (terminal end of the clip) to the neck of the bottle, and should be checked by the observer every few days.

⁵ A plastic water bottle that has a hard plastic screw-on 'stopper' is needed. The stopper of the bottle is left open so that the bottle will fill with water after being pulled under water. This allows the plastic bottle to be re-used rather than being crushed by water pressure.

B6. Reflective tape should be wrapped around the bottle to allow it to be observed at night. A piece of waterproof paper with a unique identifying number large enough to be read from a few meters away should be placed inside the bottle.

Test

B7. The bottle is emptied of water, the stopper is left open and the twine is wrapped around the body of the bottle for setting. The bottle with the encircled twine is attached to the longline⁶, midway between weights (the attachment point).

⁶ On autolines attach to the backbone; on the Spanish longline system attach to the hookline.

B8. The observer records the time at which the attachment point enters the water as t1 in seconds. The time at which the bottle is observed to be pulled completely under is recorded as t2 in seconds⁷. The result of the test is calculated as follows:

⁷ Binoculars will make this process easier to view, especially in foul weather.

Line sink rate = 10 / (t2 - t1)

B9. The result should be equal to or greater than 0.3 m/s. These data are to be recorded in the space provided in the electronic observer logbook.

CONSERVATION MEASURE 24-03 (2003)

Experimental Integrated Line-Weighting Trials in Statistical Subareas 88.1 and 88.2 in the 2003/04 Season

The Commission,

Noting the advice of the Scientific Committee and the desire to resolve line weighting issues for autoline vessels in the Convention Area, and the proposal to undertake a comprehensive trial to further resolve this issue from Australia and New Zealand in Statistical Subareas 88.1 and 88.2,Accepting the need to have two specified vessels use longlines that will not meet the normal sink rate requirements during these trials,Agrees to adopt the following conservation measure to allow the trials to occur only on the specified agreed vessels pursuant to the experimental design put forward by the Scientific Committee. In respect of fishing in Statistical Subareas 88.1 and 88.2, paragraphs 1 and 2 of Conservation Measure 25-02, protocols A2, A3, B2, and B3 of Conservation Measure 24-02, paragraph 8 of Conservation Measure 41-09, and paragraph 7 of Conservation Measure 41-10 shall not apply to the FV Janas⁸ and the FV Avro Chieftain⁹ whilst these vessels comply with the following experimental protocol.

⁸ Subject to a license being issued by the Flag State ANNEX 24-03/A

⁹ Where the number of birds caught is defined in SC-CAMLR-XXII, Annex 5, paragraphs 6.214 to 6.217.

1. The CCAMLR Scientific Observer or the national observer shall observe all sets of longlines during the trial (100% coverage of sets).

2. Vessels shall deploy two streamer lines on all sets of longlines during the trial. Streamer lines shall be deployed on either side of the longline. The windward streamer will be of the same specification as that detailed in the Appendix to Conservation Measure 25-02. The leeward streamer must be as close as possible to that specification, recognising that modifications will be needed to prevent entanglement of the two streamer lines and the vessels in the trial shall have operational discretion to avoid this.

3. The CCAMLR Scientific Observer shall provide a detailed description of the leeward streamer line use and construction in their cruise report.

4. One of the observers shall determine during every trial set whether seabirds of any species enter the 'risk zone' near vessels. The risk zone is defined as:

(i) up to 100 m astern of the vessel;

(ii) up to 10 m either side of the setting direction of the longline;

(iii) up to 10 m above the longline.

5. Whenever a seabird is sighted in the risk zone during a set, the observer shall immediately inform the officer in charge of the setting operation who shall immediately begin firing a bird scaring gas cannon until such time that the seabird(s) leave the prescribed area. The gas cannon shall be fired on a randomized cycle with a firing frequency of at least two times every three minutes.

6. If, on firing the gas cannon three times, seabirds remain in the risk zone, the vessel shall:

(i) if the seabird(s) is/are an albatross (all species) or giant petrel (both species) the vessel shall immediately deploy external weights on unweighted longlines (but not on integrated weight longlines) at such a rate as to achieve a 0.3 m/s line sink rate (~5 kg per 50 m) until such time that the seabird(s) leaves the prescribed area; or, alternatively

(ii) if the seabird(s) is not a species of albatross or giant petrel, the vessel may continue the trial until such time as the seabird catch limits, for species other than in (i) above, prescribed in Annex 24-03/A are reached.

7. If either the second streamer line described in paragraph 2 above, or the gas cannon described in paragraph 6 above are not able to be operated, the trials shall cease immediately until such time as they are able to be deployed again.

8. If any one of the seabird by-catch limits in Annex 24-03/A is reached, the vessel shall revert to fishing under the requirements of Conservation Measure 41-09, Conservation Measure 41-10, Conservation Measure 25-02 and Conservation Measure 24-02.

The by-catch limits for seabirds caught¹⁰ during these trials are:

¹⁰ Subject to a license being issued by the Flag StateANNEX 24-03/A

(i) 50 Antarctic petrels; and/or

(ii) 20 individuals of all other non-albatross or non-giant petrel species; and/or

(iii) any one of either of the giant petrel species or any one of any albatross species.

CONSERVATION MEASURE 25-02 (2003)¹¹,¹²

Minimization of the Incidental Mortality of Seabirds in the Course of Longline Fishing or Longline Fishing Research in the Convention Area

The Commission,

¹¹ Except for waters adjacent to the Kerguelen and Crozet Islands

¹² Except for waters adjacent to the Prince Edward Islands

Noting the need to reduce the incidental mortality of seabirds during longline fishing by minimizing their attraction to fishing vessels and by preventing them from attempting to seize baited hooks, particularly during the period when the lines are set, and Recognizing that in certain subareas and divisions of the Convention Area there is also a high risk that seabirds will be caught during line hauling,

Adopts the following measures to reduce the possibility of incidental mortality of seabirds during longline fishing.

1. Fishing operations shall be conducted in such a way that hooklines¹³ sink beyond the reach of seabirds as soon as possible after they are put in the water.

¹³ Hookline is defined as the groundline or mainline to which the baited hooks are attached by snoods.

2. Vessels using autoline systems should add weights to the hookline or use integrated weight hooklines while deploying longlines. Integrated weight (IW) longlines of a minimum of 50 g/m or attachment to non-IW longlines of 5 kg weights at 50 to 60 m intervals are recommended.

3. Vessels using the Spanish method of longline fishing should release weights before line tension occurs; weights of at least 8.5 kg mass shall be used, spaced at intervals of no more than 40 m, or weights of at least 6 kg mass shall be used, spaced at intervals of no more than 20 m.

4. Longlines shall be set at night only (i.e. during the hours of darkness between the times of nautical twilight¹⁴,¹⁵. During longline fishing at night, only the minimum ship's lights necessary for safety shall be used.

¹⁴ The exact times of nautical twilight are set forth in the Nautical Almanac tables for the relevant latitude, local time and date. A copy of the algorithm for calculating these times is available from the Secretariat. All times, whether for ship operations or observer reporting, shall be referenced to GMT.

¹⁵ Wherever possible, setting of lines should be completed at least three hours before sunrise (to reduce loss of bait to/catches of white-chinned petrels).

5. The dumping of offal is prohibited while longlines are being set. The dumping of offal during the haul shall be avoided. Any such discharge shall take place only on the opposite side of the vessel to that where longlines are hauled. For vessels or fisheries where there is not a requirement to retain offal on board the vessel, a system shall be implemented to remove fish hooks from offal and fish heads prior to discharge.

6. Vessels which are so configured that they lack on-board processing facilities or adequate capacity to retain offal on board, or the ability to discharge offal on the opposite side of the vessel to that where longlines are hauled, shall not be authorized to fish in the Convention Area.

7. A streamer line shall be deployed during longline setting to deter birds from approaching the hookline. Specifications of the streamer line and its method of deployment are given in the appendix to this measure.

8. A device designed to discourage birds from accessing baits during the haul of longlines shall be employed in those areas defined by CCAMLR as average-to-high or high (Level of Risk 4 or 5) in terms of risk of seabird by-catch. These areas are currently Subareas 48.3, 58.6 and 58.7 and Divisions 58.5.1 and 58.5.2.

9. Every effort should be made to ensure that birds captured alive during longlining are released alive and that wherever possible hooks are removed without jeopardizing the life of the bird concerned.

APPENDIX TO CONSERVATION MEASURE 25-02

1. The aerial extent of the streamer line, which is the part of the line supporting the streamers, is the effective seabird deterrent component of a streamer line. Vessels are encouraged to optimize the aerial extent and ensure that it protects the hookline as far eastern of the vessel as possible, even in crosswinds.

2. The streamer line shall be attached to the vessel such that it is suspended from a point a minimum of 7 m above the water at the stern on the windward side of the point where the hookline enters the water.

3. The streamer line shall be a minimum of 150 m in length and include an object towed at the seaward end to create tension to maximize aerial coverage. The object towed should be maintained directly behind the attachment point to the vessel such that in crosswinds the aerial extent of the streamer line is over the hookline.

4. Branched streamers, each comprising two strands of a minimum of 3 mm diameter brightly colored plastic tubing6 or cord, shall be attached no more than 5 m apart commencing 5 m from the point of attachment of the streamer line to the vessel and thereafter along the aerial extent of the line. Streamer length shall range between minimums of 6.5 m from the stern to 1 m for the seaward end. When a streamer line is fully deployed, the branched streamers should reach the sea surface in the absence of wind and swell. Swivels or a similar device should be placed in the streamer line in such a way as to prevent streamers being twisted around the streamer line. Each branched streamer may also have a swivel or other device at its attachment point to the streamer line to prevent fouling of individual streamers.

5. Vessels are encouraged to deploy a second streamer line such that streamer lines are towed from the point of attachment each side of the hookline. The leeward streamer line should be of similar specifications (in order to avoid entanglement the leeward streamer line may need to be shorter) and deployed from the leeward side of the hookline.

CONSERVATION MEASURE 25-03 (2003)¹⁶

Minimization of the Incidental Mortality of Seabirds and Marine Mammals in the Course of Trawl Fishing in the Convention Area

¹⁶ Except for waters adjacent to the Kerguelen and Crozet Islands

The Commission,

Noting the need to reduce the incidental mortality of or injury to seabirds and marine mammals from fishing operations,

Adopts the following measures to reduce the incidental mortality of or injury to seabirds and marine mammals during trawl fishing.

1. The use of net monitor cables on vessels in the CCAMLR Convention Area is prohibited.

2. Vessels operating within the Convention Area should at all times arrange the location and level of lighting so as to minimize illumination directed out from the vessel, consistent with the safe operation of the vessel.

3. The discharge of offal shall be prohibited during the shooting and hauling of trawl gear.

4. Nets should be cleaned prior to shooting to remove items that might attract birds.

5. Vessels should adopt shooting and hauling procedures that minimize the time that the net is lying on the surface of the water with the meshes slack. Net maintenance should, to the extent possible, not be carried out with the net in the water.

6. Vessels should be encouraged to develop gear configurations that will minimize the chance of birds encountering the parts of the net to which they are most vulnerable. This could include increasing the weighting or decreasing the buoyancy of the net so that it sinks faster, or placing colored streamers or other devices over particular areas of the net where the mesh sizes create a particular danger to birds.

CONSERVATION MEASURE 32-09 (2003)

Prohibition of Directed Fishing for Dissostichus spp. Except in accordance with Specific Conservation Measures in the 2003/04 Season The Commission hereby adopts the following conservation measure in accordance with Article IX of the Convention:

Directed fishing for Dissostichus spp. in Statistical Subarea 48.5 is prohibited from 1 December 2003 to 30 November 2004.

CONSERVATION MEASURE 32-13 (2003)

Prohibition of Directed Fishing for Dissostichus eleginoides in Statistical Division 58.5.1 outside Areas of National Jurisdiction Taking of Dissostichus eleginoides, other than for scientific research purposes in accordance with Conservation Measure 24-01, is prohibited in Statistical Division 58.5.1 outside areas of national jurisdiction from 1 December 2003. This prohibition shall apply until at least such time that a survey of the Dissostichus eleginoides stock in this division is carried out, its results reported to and analyzed by the Working Group on Fish Stock Assessment and a decision that the fishery be reopened is made by the Commission based on the advice of the Scientific Committee.

CONSERVATION MEASURE 32-14 (2003)

Prohibition of Directed Fishing for Dissostichus eleginoides in Statistical Division 58.5.2 East of 79°20'E and outside the EEZ to the West of 79°20'E

Taking of Dissostichus eleginoides, other than for scientific research purposes in accordance with Conservation Measure 24-01, is prohibited in Statistical Division 58.5.2 east of 79°20'E and outside the EEZ to the west of 79°20'E from 1 December 2003. This prohibition shall apply until at least such time that a survey of the Dissostichus eleginoides stock in this division is carried out, its results reported to and analyzed by the Working Group on Fish Stock Assessment and a decision that the fishery be reopened is made by the Commission based on the advice of the Scientific Committee.

CONSERVATION MEASURE 32-15 (2003)

Prohibition of Directed Fishing for Dissostichus spp. in Statistical Subarea 88.2 North of 65° South

Taking of Dissostichus spp., other than for scientific research purposes in accordance with Conservation Measure 24-01, is prohibited in Statistical Subarea 88.2 north of 65° South from 1 December 2003. This prohibition shall apply until at least such time that a survey of the Dissostichus spp. stock in this subarea is carried out, its results reported to and analyzed by the Working Group on Fish Stock Assessment (WG-FSA) and a decision that the fishery be reopened is made by the Commission based on the advice of the Scientific Committee.

CONSERVATION MEASURE 32-16 (2003)

Prohibition of Directed Fishing for Dissostichus spp. in Statistical Subarea 88.3

Taking of Dissostichus spp., other than for scientific research purposes in accordance with Conservation Measure 24-01, is prohibited in Statistical Subarea 88.3 from 1 December 2003. This prohibition shall apply until at least such time that a survey of the Dissostichus spp. stock in this subarea is carried out, its results reported to and analyzed by the Working Group on Fish Stock Assessment (WG-FSA) and a decision that the fishery be reopened is made by the Commission based on the advice of the Scientific Committee.

CONSERVATION MEASURE 32-17 (2003)

Prohibition of Directed Fishing for Electrona carlsbergi in Statistical Subarea 48.3

Taking of Electrona carlsbergi, other than for scientific research purposes in accordance with Conservation Measure 24-01, is prohibited in Statistical Subarea 48.3 from 1 December 2003. This prohibition shall apply until at least such time that a survey of the Electrona carlsbergi stock in this subarea is carried out, its results reported to and analyzed by the Working Group on Fish Stock Assessment (WG-FSA) and a decision that the fishery be reopened is made by the Commission based on the advice of the Scientific Committee; or a research plan for an exploratory fishery is submitted and approved by the Scientific Committee consistent with Conservation Measure 24-01.

CONSERVATION MEASURE 33-02 (2003)

Limitation of By-catch in Statistical Division 58.5.2 in the 2003/04 Season

1. There shall be no directed fishing for any species other than Dissostichus eleginoides and Champsocephalus gunnari in Statistical Division 58.5.2 in the 2003/04 fishing season.

2. In directed fisheries in Statistical Division 58.5.2 in the 2003/04 season, the by-catch of Channichthys rhinoceratus shall not exceed 150 tons, the by-catch of Lepidonotothen squamifrons shall not exceed 80 tons, the by-catch of Macrourus spp. shall not exceed 360 tons and the by-catch of skates and rays shall not exceed 120 tons. For the purposes of this measure, 'Macrourus spp.' and 'skates and rays' should each be counted as a single species.

3. The by-catch of any fish species not mentioned in paragraph 2, and for which there is no other catch limit in force, shall not exceed 50 tons in Statistical Division 58.5.2.

4. If, in the course of a directed fishery, the by-catch in any one haul of Channichthys rhinoceratus, Lepidonotothen squamifrons, Macrourus spp. or skates and rays is equal to, or greater than 2 tons, then the fishing vessel shall not fish using that method of fishing at any point within 5 n miles¹⁷ of the location where the by-catch exceeded 2 tons for a period of at least five days¹⁸. The location where the by-catch exceeded 2 tons is defined as the path followed by the fishing vessel from the point at which the fishing gear was first deployed from the fishing vessel to the point at which the fishing gear was retrieved by the fishing vessel.

¹⁷This provision concerning the minimum distance separating fishing locations is adopted pending the adoption of a more appropriate definition of a fishing location by the Commission.

¹⁸The specified period is adopted in accordance with the reporting period specified in Conservation Measure 23-01, pending the adoption of a more appropriate period by the Commission.

5. If, in the course of a directed fishery, the by-catch in any one haul of any other by-catch species for which by-catch limitations apply under this conservation measure is equal to, or greater than 1 ton, then the fishing vessel shall not fish using that method of fishing at any point within 5 n miles¹⁹ of the location where the by-catch exceeded 1 ton for a period of at least five days²⁰. The location where the by-catch exceeded 1 ton is defined as the path followed by the fishing vessel from the point at which the fishing gear was first deployed from the fishing vessel to the point at which the fishing gear was retrieved by the fishing vessel.

¹⁹ Except for waters adjacent to the Kerguelen and Crozet Islands

²⁰ The specified period is adopted in accordance with the reporting period specified in Conservation Measure 23-01, pending the adoption of a more appropriate period by the Commission

CONSERVATION MEASURE 33-03 (2003)²¹

Limitation of By-catch in New and Exploratory Fisheries in the 2003/04 Season

1. This conservation measure applies to new and exploratory fisheries in all areas containing small-scale research units (SSRUs) in the 2003/04 season except where specific by-catch conservation measures apply.

²¹ Except for waters adjacent to the Kerguelen and Crozet Islands

2. The catch limits for all by-catch species are set out in Annex 33-03/A. Within these catch limits, the total catch of by-catch species in any SSRU shall not exceed the following limits:

•skates and rays 5% of the catch limit of Dissostichus spp. or 50 tons whichever is greater;

•Macrourus spp 16% of the catch limit for Dissostichus spp. or 20 tons, whichever is greater;

•all other species combined 20 tons.

3. For the purposes of this measure 'Macrourus spp.' and 'skates and rays' should each be counted as a single species.

4. If the by-catch of any one species is equal to or greater than 1 ton in any one haul or set, then the fishing vessel shall move to another location at least 5 n miles²² distant. The fishing vessel shall not return to any point within 5 n miles of the location where the by-catch exceeded 1 ton for a period of at least five days²³. The location where the by-catch exceeded 1 ton is defined as the path followed by the fishing vessel from the point at which the fishing gear was first deployed from the fishing vessel to the point at which the fishing gear was retrieved by the fishing vessel.

²² This provision concerning the minimum distance separating fishing locations is adopted pending the adoption of a more appropriate definition of a fishing location by the Commission.

²³ The specified period is adopted in accordance with the reporting period specified in Conservation Measure 23-01, pending the adoption of a more appropriate period by the Commission.

CONSERVATION MEASURE 41-01 (2003) ²⁴,²⁵

General Measures for Exploratory Fisheries for Dissostichus spp. in the Convention Area in the 2003/04 Season

The Commission hereby adopts the following conservation measure:

²⁴ Except for waters adjacent to the Kerguelen and Crozet Islands

²⁵ Except for waters adjacent to the Prince Edward Islands

1. This conservation measure applies to exploratory fisheries using the trawl or longline methods except for such fisheries where the Commission has given specific exemptions to the extent of those exemptions. In trawl fisheries, a haul comprises a single deployment of the trawl net. In longline fisheries, a haul comprises the setting of one or more lines in a single location.

2. Fishing should take place over as large a geographical and bathymetric range as possible to obtain the information necessary to determine fishery potential and to avoid over-concentration of catch and effort. To this end, fishing in any small-scale research unit (SSRU) shall cease when the reported catch reaches the specified catch limit ²⁶ and that SSRU shall be closed to fishing for the remainder of the season.

²⁶ Unless otherwise specified, the catch limit for Dissostichus spp. shall be 100 tons in any SSRU except in respect of Subarea 88.2.

3. In order to give effect to paragraph 2 above:

(i) the precise geographic position of a haul in trawl fisheries will be determined by the mid-point of the path between the start-point and end-point of the haul for the purposes of catch and effort reporting;

(ii) the precise geographic position of a haul/set in longline fisheries will be determined by the center-point of the line or lines deployed for the purposes of catch and effort reporting;

(iii) the vessel will be deemed to be fishing in any SSRU from the beginning of the setting process until the completion of the hauling of all lines;

(iv) catch and effort information for each species by SSRU shall be reported to the Executive Secretary every five days using the Five-Day Catch and Effort Reporting System set out in Conservation Measure 23-01;

(v) the Secretariat shall notify Contracting Parties participating in these fisheries when the total catch for Dissostichus eleginoides and Dissostichus mawsoni combined in any SSRU is likely to reach the specified catch limit, and of the closure of that SSRU when that limit is reached. Upon such notification from the Secretariat, all fishing gear shall be hauled immediately. No part of a trawl path may lie within a closed SSRU and no part of a longline may be set within a closed SSRU.

4. The by-catch in each exploratory fishery shall be regulated as in Conservation Measure 33-03.

5. The total number and weight of Dissostichus eleginoides and Dissostichus mawsoni discarded, including those with the `jellymeat' condition, shall be reported.

6. Each vessel participating in the exploratory fisheries for Dissostichus spp. during the 2003/04 season shall have one scientific observer appointed in accordance with the CCAMLR Scheme of International Scientific Observation, and where possible one additional scientific observer, on board throughout all fishing activities within the fishing season.

7. The Data Collection Plan (Annex 41-01/A), Research Plan (Annex 41-01/B) and Tagging Program (Annex 41-01/C) shall be implemented. Data collected pursuant to the Data Collection and Research Plans for the period up to 31 August 2004 shall be reported to CCAMLR by 30 September 2004 so that the data will be available to the meeting of the Working Group on Fish Stock Assessment (WG-FSA) in 2004. Such data taken after 31 August shall be reported to CCAMLR not later than three months after the closure of the fishery, but, where possible, submitted in time for the consideration of WG-FSA.

8. Members who choose not to participate in the fishery prior to the commencement of the fishery shall inform the Secretariat of changes in their plans no later than one month before the start of the fishery. If, for whatever reason, Members are unable to participate in the fishery, they shall inform the Secretariat no later than one week after finding that they cannot participate. The Secretariat will inform all Contracting Parties immediately after such notification is received.

ANNEX 41-01/A

DATA COLLECTION PLAN FOR EXPLORATORY FISHERIES

1. All vessels will comply with the Five-day Catch and Effort Reporting System (Conservation Measure 23-01) and Monthly Fine-scale Catch, Effort and Biological Data Reporting Systems (Conservation Measures 23-04 and 23-05).

2. All data required by the CCAMLR Scientific Observers Manual for finfish fisheries will be collected. These include:

(i) position, date and depth at the start and end of every haul;

(ii) haul-by-haul catch and catch per effort by species;

(iii) haul-by-haul length frequency of common species;

(iv) sex and gonad state of common species;

(v) diet and stomach fullness;

(vi) scales and/or otoliths for age determination;

(vii) number and mass by species of by-catch of fish and other organisms;

(viii) observation on occurrence and incidental mortality of seabirds and mammals in relation to fishing operations.

3. Data specific to longline fisheries will be collected. These include:

(i) position and sea depth at each end of every line in a haul;

(ii) setting, soak, and hauling times;

(iii) number and species of fish lost at surface;

(iv) number of hooks set;

(v) bait type;

(vi) baiting success (%);

(vii) hook type;

(viii) sea and cloud conditions and phase of the moon at the time of setting the lines.

ANNEX 41-01/B

RESEARCH PLAN FOR EXPLORATORY FISHERIES

1. Activities under this research plan shall not be exempted from any conservation measure in force.

2. This plan applies to all small-scale research units (SSRUs) as defined in Table 1 and Figure 1.

3. Any vessel undertaking prospecting or commercial fishing in any SSRU must undertake the following research activities:

(i) On first entry into a SSRU, the first 10 hauls, designated 'first series', whether by trawl or longline, shall be designated 'research hauls' and must satisfy the criteria set out in paragraph 4.

(ii) The next 10 hauls, or 10 tons of catch for longlining, whichever trigger level is achieved first, or 10 tons of catch for trawling, are designated the 'second series'. Hauls in the second series can, at the discretion of the master, be fished as part of normal exploratory fishing. However, provided they satisfy the requirements of paragraph 4, these hauls can also be designated as research hauls.

(iii) On completion of the first and second series of hauls, if the master wishes to continue to fish within the SSRU, the vessel must undertake a 'third series' which will result in a total of 20 research hauls being made in all three series. The third series of hauls shall be completed during the same visit as the first and second series in a SSRU.

(iv) On completion of 20 research hauls the vessel may continue to fish within the SSRU.

(v) In SSRUs A, B, C, E, and G in Statistical Subarea 88.1 where fishable seabed area is less that 15 000km2, paragraphs 3(ii), 3(iii) and 3(iv) do not apply and on completion of 10 research hauls the vessel may continue to fish within the SSRU.

4. To be designated as a research haul:

(i) each research haul must be separated by not less than 5 n miles from any other research haul, distance to be measured from the geographical mid-point of each research haul;

(ii) each haul shall comprise: for longlines, at least 3 500 hooks and no more than 10 000 hooks; this may comprise a number of separate lines set in the same location; for trawls, at least 30 minutes effective fishing time as defined in the Draft Manual for Bottom Trawl Surveys in the Convention Area (SC-CAMLR-XI),

Annex 5, Appendix H, Attachment E, paragraph 4);

(iii) each haul of a longline shall have a soak time of not less than six hours, measured from the time of completion of the setting process to the beginning of the hauling process.

5. All data specified in the Data Collection Plan (Annex 41-01/A) of this conservation measure shall be collected for every research haul; in particular, all fish in a research haul up to 100 fish are to be measured and at least 30 fish sampled for biological studies (paragraphs 2(iv) to 2(vi) of Annex 41-01/A)). Where more than 100 fish are caught, a method for randomly subsampling the fish should be applied.

ANNEX 41-01/C

TAGGING PROGRAM FOR EXPLORATORY FISHERIES

(i) Each longline vessel participating in exploratory fisheries for Dissostichus spp. shall tag and release ²⁷Dissostichus spp. at a rate of one toothfish per ton of green weight catch throughout the season. Vessels shall only discontinue tagging after they have tagged 500 toothfish, or leave the fishery having tagged one toothfish per ton of green weight caught.

²⁷ In accordance with the CCAMLR Tagging Protocol for exploratory fisheries which is available from the Secretariat.

(ii) The program should target small toothfish under 100 cm in total length, although larger toothfish should be tagged if necessary in order to meet the tagging requirement of one toothfish per ton of green weight catch. All released toothfish should be double-tagged and releases should cover as broad a geographical area as possible.

(iii) All tags shall be clearly imprinted with a unique serial number and a return address so that the origin of tags can be traced in the case of recapture of the tagged toothfish. All relevant tag data and any tag recaptures of toothfish in the fishery shall be reported electronically to the CCAMLR Data Manager within two months of the vessel departing these fisheries.

CONSERVATION MEASURE 41-02 (2003)

Limits on the Fishery for Dissostichus eleginoides in Statistical Subarea 48.3 in the 2003/04 Season

The Commission hereby adopts the following conservation measure in accordance with Conservation Measure 31-01:

Access 1. The fishery for Dissostichus eleginoides in Statistical Subarea 48.3 shall be conducted by vessels using longlines and pots only.Catch limit 2. The total catch of Dissostichus eleginoides in Statistical Subarea 48.3 in the 2003/04 season shall be limited to 4 420 tons.Season 3. For the purpose of the longline fishery for Dissostichus eleginoides in Statistical Subarea 48.3, the 2003/04 season is defined as the period from 1 May to 31 August 2004, or until the catch limit is reached, whichever is sooner. For the purpose of the pot fishery for Dissostichus eleginoides in Statistical Subarea 48.3, the 2003/04 season is defined as the period from 1 December 2003 to 30 November 2004, or until the catch limit is reached, whichever is sooner. The season for longline fishing operations may be extended to 14 September 2004 for any vessel which has demonstrated full compliance with Conservation Measure 25-02 in the 2002/03 season. This extension to the season will also be subject to a catch limit of three (3) seabirds per vessel. If three seabirds are caught during the season extension, fishing shall cease immediately for that vessel. By-catch 4. The by-catch of crab shall be counted against the catch limit in the crab fishery in Statistical Subarea 48.3.

5. The by-catch of finfish in the fishery for Dissostichus eleginoides in Statistical Subarea 48.3 in the 2003/04 season shall not exceed 221 tons for skates and rays and 221 tons for Macrourus spp. For the purpose of these by-catch limits, skates and rays shall be counted as a single species.

6. If the by-catch of any one species is equal to or greater than 1 ton in any one haul or set, then the fishing vessel shall move to another location at least 5 n miles1 distant. The fishing vessel shall not return to any point within 5 n miles of the location where the by-catch exceeded 1 ton for a period of at least five days2. The location where the by-catch exceeded 1 ton is defined as the path followed by the fishing vessel from the point at which the fishing gear was first deployed from the fishing vessel to the point at which the fishing gear was retrieved by the fishing vessel.Mitigation 7. The operation of this fishery shall be carried out in accordance with Conservation Measure 25-02 so as to minimize the incidental mortality of seabirds in the course of fishing. Observers 8. Each vessel participating in this fishery shall have at least one scientific observer appointed in accordance with the CCAMLR Scheme of International Scientific Observation, and where possible one additional scientific observer, on board throughout all fishing activities within the fishing period.Data: catch/effort

9. For the purpose of implementing this conservation measure in the 2003/04 season, the following shall apply:

(i) the Five-day Catch and Effort Reporting System set out in Conservation Measure 23-01;

(ii) the Monthly Fine-scale Catch and Effort Reporting System set out in Conservation Measure 23-04. Fine-scale data shall be submitted on a haul-by-haul basis.

10. For the purpose of Conservation Measures 23-01 and 23-04, the target species is Dissostichus eleginoides and by-catch species are defined as any species other than Dissostichus eleginoides.

11. The total number and weight of Dissostichus eleginoides discarded, including those with the 'jellymeat' condition, shall be reported. These fish will count towards the total allowable catch.

Data:

biological

12. Fine-scale biological data, as required under Conservation Measure 23-05, shall be collected and recorded. Such data shall be reported in accordance with the Scheme of International Scientific Observation.

CONSERVATION MEASURE 41-04 (2003)

Limits on the Exploratory Fishery for Dissostichus spp. in Statistical Subarea 48.6 in the 2003/04 Season

The Commission hereby adopts the following conservation measure in accordance with Conservation Measure 21-02:

Access 1. Fishing for Dissostichus spp. in Statistical Subarea 48.6 shall be limited to the exploratory longline fishery by Argentina, Japan, Namibia, New Zealand, Spain and South Africa. The fishery shall be conducted by Argentine, Japanese, Namibian, New Zealand, Spanish and South African flagged vessels using longlines only. No more than one vessel per country shall fish at any one time.

Catch limit 2. The total catch of Dissostichus spp. in Statistical Subarea 48.6 in the 2003/04 season shall not exceed a precautionary catch limit of 455 tons north of 60°S and 455 tons south of 60°S.

Season 3. For the purpose of the exploratory longline fishery for Dissostichus spp. in Statistical Subarea 48.6, the 2003/04 season is defined as the period from 1 March to 31 August 2004 north of 60°S and the period from 15 February to 15 October 2004 south of 60°S. In the event that either limit is reached, the relevant fishery shall be closed.By-catch 4. The by-catch in this fishery shall be regulated as set out in Conservation Measure 33-03.

Mitigation 5. The exploratory longline fishery for Dissostichus spp. in Statistical Subarea 48.6 shall be carried out in accordance with the provisions of Conservation Measure 25-02, except paragraph 3 (night setting). Prior to entry into force of the license and prior to entering the Convention Area, each vessel shall demonstrate its capacity to comply with experimental line-weighting trials as approved by the Scientific Committee and described in Conservation Measure 24-02 and such data shall be reported to the Secretariat immediately.

6. Longlines may be set during daylight hours only if the vessels are demonstrating a consistent minimum line sink rate of 0.3 m/s. Any vessel catching a total of three (3) seabirds shall immediately revert to night setting in accordance with Conservation Measure 25-02.

7. There shall be no offal discharge in this fishery.Observers 8. Each vessel participating in the fishery shall have at least two scientific observers, one of whom shall be an observer appointed in accordance with the CCAMLR Scheme of International Scientific Observation, on board throughout all fishing activities within the fishing period.

Data:

catch/effort

9. For the purpose of implementing this conservation measure in the 2003/04

season, the following shall apply:

(i) the Five-day Catch and Effort Reporting System set out in Conservation Measure 23-01;

(ii) the Monthly Fine-scale Catch and Effort Reporting System set out

in Conservation Measure 23-04. Fine-scale data shall be submitted on a haul-by-haul basis.

10. For the purpose of Conservation Measures 23-01 and 23-04, the target species is Dissostichus spp. and by-catch species are defined as any species other than Dissostichus spp.

Data:

biological

11. Fine-scale biological data, as required under Conservation Measure 23-05, shall be collected and recorded. Such data shall be reported in accordance with the Scheme of International Scientific Observation.

Research

12. Each vessel participating in this exploratory fishery shall conduct fishery-based research in accordance with the Research Plan and Tagging Program described in Conservation Measure 41-01, Annex B and Annex C respectively.

CONSERVATION MEASURE 41-05 (2003)

Limits on the Exploratory Fishery for Dissostichus spp. in Statistical Division 58.4.2 in the 2003/04 Season

The Commission hereby adopts the following conservation measure in accordance with Conservation Measure 21-02, and notes that this measure would be for one year and that data arising from these activities would be reviewed by the Scientific Committee in 2004:

Access 1. Fishing for Dissostichus spp. in Statistical Division 58.4.2 shall be limited to the exploratory longline fishery by Argentina, Australia, Ukraine, Russia and the USA. The fishery shall be conducted by Argentine, Australian, Ukrainian, Russian and US flagged vessels using longlines only.Catch limit 2. The total catch of Dissostichus spp. in Statistical Division 58.4.2 in the 2003/04 season shall not exceed a precautionary catch limit of 500 tons, of which no more 100 tons shall be taken in any one of the five small-scale research units (SSRUs) defined in Conservation Measure 41-01, Annex B for Division 58.4.2.

3. In order to distribute effort throughout the division, to ensure that sufficient data are collected from toothfish populations in various areas, and also to afford some protection to the benthic communities, either the eastern or western half (5° of longitude) of each SSRU in which fishing takes place will be defined as 'open' at the discretion of a 'designating vessel's' master according to the actions specified below. The other half of the SSRU shall remain closed to fishing.

4. On entry to an SSRU a vessel must:

(i) notify the Secretariat that is has entered that SSRU with an intention to fish before exiting;

(ii) seek notification from the Secretariat of which half of the SSRU is

open or that the SSRU remains to be designated according to the steps below;

(iii) determine from the Secretariat whether it is the first vessel to enter that SSRU and therefore establishes a 'designating vessel right' to determine which half of the SSRU will be open;

(iv) should the vessel be the 'designating vessel' in that SSRU then

(a) it should choose which half is to be open;

(b) immediately notify the Secretariat of its choice prior to its first line being set;

(v) if a 'designating vessel' for an SSRU exits that SSRU without fishing then it should notify immediately the Secretariat and forfeit the right as a 'designating vessel' for that SSRU;

(vi) if the vessel is not the 'designating vessel' then it must not fish until the 'designating vessel' has selected the half of the SSRU to be opened. Season 5. For the purpose of the exploratory longline fishery for Dissostichus spp. in Statistical Division 58.4.2, the 2003/04 season is defined as the period from 1 December 2003 to 30 November 2004.

Fishing operations

6. The exploratory longline fishery for Dissostichus spp. in Division 58.4.2 shall be carried out in accordance with the provisions of Conservation Measure 41-01, except paragraph 6.

7. Fishing will be prohibited in depths less than 550 m in order to protect benthic communities. By-catch 8. The by-catch in this fishery shall be regulated as set out in Conservation Measure 33-03.

Mitigation 9. The exploratory longline fishery for Dissostichus spp. in Statistical Division 58.4.2 shall be carried out in accordance with the provisions of Conservation Measure 25-02, except paragraph 3 (night setting) shall not apply. Prior to entry into force of the license and prior to entering the Convention Area, each vessel shall demonstrate its capacity to comply with experimental line-weighting trials as approved by the Scientific Committee and described in Conservation Measure 24-02 and such data shall be reported to the Secretariat immediately.

10. In Statistical Division 58.4.2, longlines may be set during daylight hours only if the vessel demonstrates a consistent minimum line sink rate of 0.3 m/s in accordance with Conservation Measure 24-02. Should a total of three (3) seabirds be caught, the vessel shall immediately revert to night setting in accordance with Conservation Measure 25-02.

11. There shall be no offal discharge in this fishery.Observers 12. Each vessel participating in the fishery shall have at least two scientific observers, one of whom shall be an observer appointed in accordance with the CCAMLR Scheme of International Scientific Observation, on board throughout all fishing activities within the fishing period.Research 13. Each vessel participating in this exploratory fishery shall conduct fishery-based research in accordance with the Research Plan and Tagging Program described in Conservation Measure 41-01, Annex B and Annex C respectively.

Data:

catch/effort

14. For the purpose of implementing this conservation measure in the 2003/04 season, the following shall apply:

(i) the Five-day Catch and Effort Reporting System set out in Conservation Measure 23-01;

(ii) the Monthly Fine-scale Catch and Effort Reporting System set out in Conservation Measure 23-04. Fine-scale data shall be submitted on a haul-by-haul basis.

15. For the purpose of Conservation Measures 23-01 and 23-04, the target species is Dissostichus spp. and by-catch species are defined as any species other than Dissostichus spp.

Data:

biological

16. Fine-scale biological data, as required under Conservation Measure 23-05, shall be collected and recorded. Such data shall be reported in accordance with the Scheme of International Scientific Observation.

CONSERVATION MEASURE 41-06 (2003)

Limits on the Exploratory Fishery for Dissostichus spp. on Elan Bank (Statistical Division 58.4.3a) outside Areas of National Jurisdiction in the 2003/04 Season

The Commission hereby adopts the following conservation measure in accordance with Conservation Measure 21-02:

Access 1. Fishing for Dissostichus spp. on Elan Bank (Statistical Division 58.4.3a) outside areas of national jurisdiction shall be limited to the exploratory fishery by Argentina, Australia, Ukraine, Russia and the USA. The fishery shall be conducted by Argentine, Australian, Ukrainian, Russian and US flagged vessels using longlines only and one Australian flagged vessel using trawl only. No more than one vessel per country shall fish at any one time.Catch limit 2. The total catch of Dissostichus spp. on Elan Bank (Statistical Division 58.4.3a) outside areas of national jurisdiction in the 2003/04 season shall not exceed a precautionary catch limit of 250 tons.

Season 3. For the purpose of the exploratory longline fishery for Dissostichus spp. on Elan Bank (Statistical Division 58.4.3a) outside areas of national jurisdiction, the 2003/04 season is defined as the period from 1 May to 31 August 2004, or until the catch limit is reached, whichever is sooner.

4. For the purpose of the trawl fishery for Dissostichus spp. on Elan Bank(Statistical Division 58.4.3a) outside areas of national jurisdiction, the 2003/04 season is defined as the period from 1 December 2003 to 30 November 2004, or until the catch limit is reached, whichever is sooner.By-catch 5. The by-catch in this fishery shall be regulated as set out in Conservation Measure 33-03.

Mitigation 6. The operation of this fishery shall be carried out in accordance with Conservation Measure 25-02 so as to minimize the incidental mortality of seabirds in the course of fishing.

7. The fishery on Elan Bank (Statistical Division 58.4.3a) outside areas of national jurisdiction, may take place outside the prescribed season (paragraph 3) provided that, prior to entry into force of the license and prior to entering the Convention Area, each vessel shall demonstrate its capacity to comply with experimental line-weighting trials as approved by the Scientific Committee and described in Conservation Measure 24-02 and such data shall be reported to the Secretariat immediately.

8. Should a total of three (3) seabirds be caught by a vessel outside the normal season (defined in paragraph 3), the vessel shall cease fishing immediately and shall not be permitted to fish outside the normal fishing season for the remainder of the 2003/04 fishing season.Observers 9. Each vessel participating in this fishery shall have at least one scientific observer appointed in accordance with the CCAMLR Scheme of International Scientific Observation, and where possible one additional scientific observer, on board throughout all fishing activities within the fishing period.

Data:

catch/effort

10. For the purpose of implementing this conservation measure in the 2003/04 season, the following shall apply:

(i) the Five-day Catch and Effort Reporting System set out in Conservation Measure 23-01;

(ii) the Monthly Fine-scale Catch and Effort Reporting System set out in Conservation Measure 23-04. Fine-scale data shall be submitted on a haul-by-haul basis.

11. For the purpose of Conservation Measures 23-01 and 23-04, the target species is Dissostichus spp. and by-catch species are defined as any species other than Dissostichus spp.

Data:

biological

12. Fine-scale biological data, as required under Conservation Measure 23-05, shall be collected and recorded. Such data shall be reported in accordance with the Scheme of International Scientific Observation.

Research

13. Each vessel participating in this exploratory fishery shall conduct fishery based research in accordance with the Research Plan and Tagging Program described in Conservation Measure 41-01, Annex B and Annex C respectively.

CONSERVATION MEASURE 41-07 (2003)

Limits on the Exploratory Fishery for Dissostichus spp. On BANZARE Bank (Statistical Division 58.4.3b) outside Areas of National Jurisdiction in the 2003/04 Season

The Commission hereby adopts the following conservation measure in accordance with Conservation Measure 21-02:

Access 1. Fishing for Dissostichus spp. on BANZARE Bank (Statistical Division 58.4.3b) outside areas of national jurisdiction shall be limited to the exploratory fishery by Argentina, Australia, Ukraine, Russia and the USA. The fishery shall be conducted by Argentine, Australian, Ukrainian, Russian and US flagged vessels using longlines only and one Australian flagged vessel using trawl only. No more than one vessel per country shall fish at any one time.

Catch limit 2. The total catch of Dissostichus spp. on BANZARE Bank (Statistical Division 58.4.3b) outside areas of national jurisdiction in the 2003/04 season shall not exceed a precautionary catch limit of 300 tons.

Season 3. For the purpose of the exploratory longline fishery for Dissostichus spp. on BANZARE Bank (Statistical Division 58.4.3b) outside areas of national jurisdiction, the 2003/04 season is defined as the period from 1 May to 31 August 2004, or until the catch limit is reached, whichever is sooner.

4. For the purpose of the trawl fishery for Dissostichus spp. on BANZARE Bank (Statistical Division 58.4.3b) outside areas of national jurisdiction, the 2003/04 season is defined as the period from 1 December 2003 to 30 November 2004, or until the catch limit is reached, whichever is sooner.By-catch 5. The by-catch in this fishery shall be regulated as set out in Conservation Measure 33-03.

Mitigation 6. The operation of this fishery shall be carried out in accordance with Conservation Measure 25-02 so as to minimize the incidental mortality of seabirds in the course of fishing.

7. The fishery on BANZARE Bank (Statistical Division 58.4.3b) outside areas of national jurisdiction, may take place outside the prescribed season (paragraph 3) provided that, prior to entry into force of the license and prior to entering the Convention Area, each vessel shall demonstrate its capacity to comply with experimental line-weighting trials as approved by the Scientific Committee and described in Conservation Measure 24-02 and such data shall be reported to the Secretariat immediately.

8. Should a total of three (3) seabirds be caught by a vessel outside the normal season (defined in paragraph 3), the vessel shall cease fishing immediately and shall not be permitted to fish outside the normal fishing season for the remainder of the 2003/04 fishing season.

Observers 8. Each vessel participating in this fishery shall have at least one scientific observer appointed in accordance with the CCAMLR Scheme of International Scientific Observation, and where possible one additional scientific observer, on board throughout all fishing activities within the fishing period.

Data:

catch/effort

9. For the purpose of implementing this conservation measure in the 2003/04

season, the following shall apply:

(i) the Five-day Catch and Effort Reporting System set out in Conservation Measure 23-01;

(ii) the Monthly Fine-scale Catch and Effort Reporting System set out in Conservation Measure 23-04. Fine-scale data shall be submitted on a haul-by-haul basis.

10. For the purpose of Conservation Measures 23-01 and 23-04, the target species is Dissostichus spp. and by-catch species are defined as any species other than Dissostichus spp.

Data:

biological

11. Fine-scale biological data, as required under Conservation Measure 23-05, shall be collected and recorded. Such data shall be reported in accordance with the Scheme of International Scientific Observation.

Research 12. Each vessel participating in this exploratory fishery shall conduct fishery based research in accordance with the Research Plan and Tagging Program described in Conservation Measure 41-01, Annex B and Annex C respectively.

CONSERVATION MEASURE 41-08 (2003)

Limits on the fishery for Dissostichus eleginoides in Statistical Division 58.5.2 in the 2003/04 Season

Access 1. The fishery for Dissostichus eleginoides in Statistical Division 58.5.2 shall be conducted by vessels using trawls or longlines only.Catch limit 2. The total catch of Dissostichus eleginoides in Statistical Division 58.5.2 in the 2003/04 season shall be limited to 2 873 tons west of 79°20'E. Season 3. For the purpose of the trawl fishery for Dissostichus eleginoides in Statistical Division 58.5.2, the 2003/04 season is defined as the period from 1 December 2003 to 30 November 2004, or until the catch limit is reached, whichever is sooner. For the purpose of the longline fishery for Dissostichus eleginoides in Statistical Division 58.5.2, the 2003/04 season is defined as the period from 1 May to 31 August 2004, or until the catch limit is reached, whichever is sooner. The season for longline fishing operations may be extended to 14 September 2004 for any vessel which has demonstrated full compliance with Conservation Measure 25-02 in the 2002/03 season. This extension to the season will also be subject to a catch limit of three (3) seabirds per vessel. If three seabirds are caught during the season extension, fishing shall cease immediately for that vessel.By-catch 4. Fishing shall cease if the by-catch of any species reaches its by-catch limit as set out in Conservation Measure 33-02.

Mitigation 5. The operation of this fishery shall be carried out in accordance with Conservation Measures 25-02 and 25-03 so as to minimize the incidental mortality of seabirds in the course of fishing.

Observers 6. Each vessel participating in this fishery shall have at least one scientific observer, and may include one appointed in accordance with the CCAMLR Scheme of International Scientific Observation, on board throughout all fishing activities within the fishing period.

Data:

catch/effort

7. For the purpose of implementing this conservation measure in the 2003/04 season, the following shall apply:

(i) the Ten-day Catch and Effort Reporting System set out in Annex 41-08/A;

(ii) the Monthly Fine-scale Catch and Effort Reporting System set out in Annex 41-08/A. Fine-scale data shall be submitted on a haul-by-haul basis.

8. For the purpose of Annex 41-08/A, the target species is Dissostichus eleginoides and by-catch species are defined as any species other than Dissostichus eleginoides.

9. The total number and weight of Dissostichus eleginoides discarded, including those with the 'jellymeat' condition, shall be reported. These fish will count towards the total allowable catch.

Data:

biological

10. Fine-scale biological data, as required under Annex 41-08/A, shall be collected and recorded. Such data shall be reported in accordance with the Scheme of International Scientific Observation.

ANNEX 41-08/A

DATA REPORTING SYSTEM

A ten-day catch and effort reporting system shall be implemented:

(i) for the purpose of implementing this system, the calendar month shall be divided into three reporting periods, viz: day 1 to day 10, day 11 to day 20 and day 21 to the last day of the month. The reporting periods are hereafter referred to as periods A, B and C;

(ii) at the end of each reporting period, each Contracting Party participating in the fishery shall obtain from each of its vessels information on total catch and total days and hours fished for that period and shall, by cable, telex, facsimile or electronic transmission, transmit the aggregated catch and days and hours fished for its vessels so as to reach the Executive Secretary no later than the end of the next reporting period;

(iii) a report must be submitted by every Contracting Party taking part in the fishery for each reporting period for the duration of the fishery, even if no catches are taken;

(iv) the catch of Dissostichus eleginoides and of all by-catch species must be reported;

(v) such reports shall specify the month and reporting period (A, B and C) to which each report refers;

(vi) immediately after the deadline has passed for receipt of the reports for each period, the Executive Secretary shall notify all Contracting Parties engaged in fishing activities in the division of the total catch taken during the reporting period and the total aggregate catch for the season to date;

(vii) at the end of every three reporting periods, the Executive Secretary shall inform all Contracting Parties of the total catch taken during the three most recent reporting periods and the total aggregate catch for the season to date.

A fine-scale catch, effort and biological data reporting system shall be implemented:

(i) the scientific observer(s) aboard each vessel shall collect the data required to complete the CCAMLR fine-scale catch and effort data form C1, latest version. These data shall be submitted to the CCAMLR Secretariat not later than one month after the vessel returns to port;

(ii) the catch of Dissostichus eleginoides and of all by-catch species must be reported;

(iii) the numbers of seabirds and marine mammals of each species caught and released or killed must be reported;

(iv) the scientific observer(s) aboard each vessel shall collect data on the length composition from representative samples of Dissostichus eleginoides and by-catch species:

(a) length measurements shall be to the nearest centimeter below;

(b) representative samples of length composition shall be taken from each fine-scale grid rectangle (0.5° latitude by 1° longitude) fished in each calendar month;

(v) the above data shall be submitted to the CCAMLR Secretariat not later than one month after the vessel returns to port.

CONSERVATION MEASURE 41-09 (2003)

Limits on the Exploratory Fishery for Dissostichus spp. in Statistical Subarea 88.1 in the 2003/04 Season

The Commission hereby adopts the following conservation measure in accordance with Conservation Measure 21-02:

Access 1. Fishing for Dissostichus spp. in Statistical Subarea 88.1 shall be limited to the exploratory longline fishery by Argentina, Japan, Republic of Korea, New Zealand, Norway, Russia, South Africa, Spain, Ukraine, UK, USA and Uruguay. The fishery shall be conducted by a maximum in the season of two (2) Argentine, one (1) Japanese, two (2) Korean, six (6) New Zealand, one (1) Norwegian, two (2) Russian, two (2) South African, two (2) Spanish, three (3) Ukrainian, one (1) UK, two (2) US and two (2) Uruguayan flagged vessels using longlines only.

Catch limit 2. The total catch of Dissostichus spp. in Statistical Subarea 88.1 in the 2003/04 season shall not exceed a precautionary catch limit of 3 250 tons. Catch limits for each of the SSRUs, as defined in Conservation Measure 41-01, Annex B for Subarea 88.1, shall be as follows: A - 0 tons; B - 80 tons; C - 223 tons; D - 0 tons; E -57 tons; F - 0 tons; G - 83 tons; H - 786 tons; I - 776 tons; J - 316 tons; K - 749 tons; L - 180 tons.

Season 3. For the purpose of the exploratory longline fishery for Dissostichus spp.in Statistical Subarea 88.1, the 2003/04 season is defined as the period from 1 December 2003 to 31 August 2004.

Fishing operations

4. The exploratory longline fishery for Dissostichus spp. in Statistical Subarea 88.1 shall be carried out in accordance with the provisions of Conservation Measure 41-01, except paragraph 6.By-catch 5. The by-catch in this fishery shall be regulated as set out in Conservation Measure 33-03.

Mitigation 6. The exploratory longline fishery for Dissostichus spp. in Statistical Subarea 88.1 shall be carried out in accordance with the provisions of Conservation Measure 25-02, except paragraph 3 (night setting) shall not apply. Prior to entry into force of the license and prior to entering the Convention Area, each vessel shall demonstrate its capacity to comply with experimental line-weighting trials as approved by the Scientific Committee and described in Conservation Measure 24-02 and such data shall be reported to the Secretariat immediately.

7. In Statistical Subarea 88.1, longlines may be set during daylight hours only if the vessels are demonstrating a consistent minimum line sink rate of 0.3 m/s in accordance with Conservation Measure 24-02. Any vessel catching a total of three (3) seabirds shall immediately revert to night setting in accordance with Conservation Measure 25-02.

8. There shall be no offal discharge in this fishery.

Observers 9. Each vessel participating in the fishery shall have at least two scientific observers, one of whom shall be an observer appointed in accordance with the CCAMLR Scheme of International Scientific Observation, on board throughout all fishing activities within the fishing period.

VMS 10. Each vessel participating in this exploratory longline fishery shall be required to operate a VMS at all times, in accordance with Conservation Measure 10-04.

CDS 11. Each vessel participating in this exploratory longline fishery shall be required to participate in the Catch Documentation Scheme for Dissostichus spp., in accordance with Conservation Measure 10-05.

Research 12. Each vessel participating in this exploratory fishery shall conduct fishery-based research in accordance with the Research Plan and Tagging Program described in Conservation Measure 41-01, Annex B and Annex C respectively.

Data:

catch/effort

13. For the purpose of implementing this conservation measure in the 2003/04

season, the following shall apply:

(i) the Five-day Catch and Effort Reporting System set out in Conservation Measure 23-01;

(ii) the Monthly Fine-scale Catch and Effort Reporting System set out in Conservation Measure 23-04. Fine-scale data shall be submitted on a haul-by-haul basis.

14. For the purpose of Conservation Measures 23-01 and 23-04, the target species is Dissostichus spp. and by-catch species are defined as any species other than Dissostichus spp.

Data:

biological

15. Fine-scale biological data, as required under Conservation Measure 23-05, shall be collected and recorded. Such data shall be reported in accordance with the Scheme of International Scientific Observation²⁸.

²⁸ As notified to the Secretariat in accordance with Conservation Measure 21-02, paragraph 2(iv).

Discharge 16. All vessels participating in this exploratory fishery shall be prohibited from discharging:

(i) oil or fuel products or oily residues into the sea, except as permitted in Annex I of MARPOL 73/78;

(ii) garbage;

(iii) food wastes not capable of passing through a screen with openings no greater than 25 mm;

(iv) poultry or parts (including egg shells); or

(v) sewage within 12 n miles of land or ice shelves, or sewage while the ship is traveling at a speed of less than 4 knots.

Additional elements

17. No live poultry or other living birds shall be brought into Statistical Subarea 88.1 and any dressed poultry not consumed shall be removed from Statistical Subarea 88.1.

18. Fishing for Dissostichus spp. in Statistical Subarea 88.1 shall be prohibited within 10 n miles of the coast of the Balleny Islands.

CONSERVATION MEASURE 41-10 (2003)

Limits on the Exploratory Fishery for Dissostichus spp. in Statistical Subarea 88.2 in the 2003/04 Season

The Commission hereby adopts the following conservation measure in accordance with Conservation Measure 21-02:

Access 1. Fishing for Dissostichus spp. in Statistical Subarea 88.2 shall be limited to the exploratory longline fishery by Argentina, Republic of Korea, New Zealand, Norway, Russia, South Africa and Ukraine. The fishery shall be conducted by a maximum in the season of two (2) Argentine, two (2) Korean, six (6) New Zealand, one (1) Norwegian, two (2) Russian, two (2) South African and three (3) Ukrainian flagged vessels using longlines only.Catch limit 2. The total catch of Dissostichus spp. in Statistical Subarea 88.2 south of 65°S in the 2003/04 season shall not exceed a precautionary catch limit of 375 tons.

Season 3. For the purpose of the exploratory longline fishery for Dissostichus spp. in Statistical Subarea 88.2, the 2003/04 season is defined as the period from 1 December 2003 to 31 August 2004.

4. The exploratory longline fishery for Dissostichus spp. in Statistical Subarea 88.2 shall be carried out in accordance with the provisions of Conservation Measure 41-01, except paragraph 6.By-catch 5. The by-catch in this fishery shall be regulated as set out in Conservation Measure 33-03.

Mitigation 6. The exploratory longline fishery for Dissostichus spp. in Statistical Subarea 88.2 shall be carried out in accordance with the provisions of Conservation Measure 25-02, except paragraph 3 (night setting) shall not apply. Prior to entry into force of the license and prior to entering the Convention Area, each vessel shall demonstrate its capacity to comply with experimental line-weighting trials as approved by the Scientific Committee and described in Conservation Measure 24-02, and such data shall be reported to the Secretariat immediately.

7. In Statistical Subarea 88.2, longlines may be set during daylight hours only if the vessels are demonstrating a consistent minimum line sink rate of 0.3 m/s in accordance with Conservation Measure 24-02. Any vessel catching a total of three (3) seabirds shall immediately revert to night setting in accordance with Conservation Measure 25-02.

8. There shall be no offal discharge in this fishery. Observers 9. Each vessel participating in the fishery shall have at least two scientific observers, one of whom shall be an observer appointed in accordance with the CCAMLR Scheme of International Scientific Observation, on board throughout all fishing activities within the fishing period.

VMS 10. Each vessel participating in this exploratory longline fishery shall be required to operate a VMS at all times, in accordance with Conservation Measure 10-04.

CDS 11. Each vessel participating in this exploratory longline fishery shall be required to participate in the Catch Documentation Scheme for Dissostichus spp., in accordance with Conservation Measure 10-05.

Research 12. Each vessel participating in this exploratory fishery shall conduct fishery-based research in accordance with the Research Plan and Tagging Program described in Conservation Measure 41-01, Annex B and Annex C respectively.

Data:

catch/effort

13. For the purpose of implementing this conservation measure in the 2003/04 season, the following shall apply:

(i) the Five-day Catch and Effort Reporting System set out in Conservation Measure 23-01;

(ii) the Monthly Fine-scale Catch and Effort Reporting System set out in Conservation Measure 23-04. Fine-scale data shall be submitted on a haul-by-haul basis.

14. For the purpose of Conservation Measures 23-01 and 23-04, the target species is Dissostichus spp. and by-catch species are defined as any species other than Dissostichus spp.

Data:

biological

15. Fine-scale biological data, as required under Conservation Measure 23-05, shall be collected and recorded. Such data shall be reported in accordance with the Scheme of International Scientific Observation.

Discharge

16. All vessels participating in this exploratory fishery shall be prohibited from discharging:

(i) oil or fuel products or oily residues into the sea, except as permitted

in Annex I of MARPOL 73/78;

(ii) garbage;

(iii) food wastes not capable of passing through a screen with openings no greater than 25 mm;

(iv) poultry or parts (including egg shells); or

(v) sewage within 12 n miles of land or ice shelves, or sewage while the ship is traveling at a speed of less than 4 knots.

Additional elements

17. No live poultry or other living birds shall be brought into Statistical Subarea 88.2 and any dressed poultry not consumed shall be removed from Statistical Subarea 88.2.

CONSERVATION MEASURE 41-11 (2003)

Limits on the Exploratory Fishery for Dissostichus spp. in Statistical Division 58.4.1 in the 2003/04 Season

The Commission hereby adopts the following conservation measure in accordance with Conservation Measure 21-02, and notes that this measure would be for one year and that data arising from these activities would be reviewed by the Scientific Committee in 2004:

Access 1. Fishing for Dissostichus spp. in Statistical Division 58.4.1 shall be limited to the exploratory longline fishery by Argentina, Australia and the USA. The fishery shall be conducted by Argentine, Australian and US flagged vessels using longlines only.

Catch limit 2. The total catch of Dissostichus spp. in Statistical Division 58.4.1 in the 2003/04 season shall not exceed a precautionary catch limit of 800 tons, of which no more than 200 tons shall be taken in any one of the four small-scale research units (SSRUs) identified in paragraph 3.

3. Division 58.4.1 shall be divided into eight SSRUs as detailed in Annex B of Conservation Measure 41-01. Of these eight SSRUs, A, C, E and G shall have a catch limit of 200 tons of Dissostichus spp. SSRUs B, D, F and H shall have a catch limit of zero tons of Dissostichus spp. In addition, fishing will be prohibited in depths less than 550 m in all SSRUs in order to protect the benthic communities.

Season 4. For the purpose of the exploratory longline fishery for Dissostichus spp. in Statistical Division 58.4.1, the 2003/04 season is defined as the period from 1 December 2003 to 30 November 2004.

Fishing operations

5. The exploratory longline fishery for Dissostichus spp. in Division 58.4.1 shall be carried out in accordance with the provisions of Conservation Measure 41-01, except paragraph 6. By-catch 6. The by-catch in this fishery shall be regulated as set out in Conservation Measure 33-03.

Mitigation 7. The exploratory longline fishery for Dissostichus spp. in Statistical Division 58.4.1 shall be carried out in accordance with the provisions of Conservation Measure 25-02, except paragraph 2 (night setting) shall not apply. Prior to entry into force of the license and prior to entering the Convention Area, each vessel shall demonstrate its capacity to comply with experimental line-weighting trials as approved by the Scientific Committee and described in Conservation Measure 24-02 and such data shall be reported to the Secretariat immediately.

8. In Statistical Division 58.4.1, longlines may be set during daylight hours only if the vessel demonstrates a consistent minimum line sink rate of 0.3 m/s in accordance with Conservation Measure 24-02. Should a total of three (3) seabirds be caught, the vessel shall immediately revert to night setting in accordance with Conservation Measure 25-02.

9. There shall be no offal discharge in this fishery. Observers 10. Each vessel participating in the fishery shall have at least two scientific observers, one of whom shall be an observer appointed in accordance with the CCAMLR Scheme of International Scientific Observation, on board throughout all fishing activities within the fishing period.

Research 11. Each vessel participating in this exploratory fishery shall conduct fishery-based research in accordance with the Research Plan and Tagging Program described in Conservation Measure 41-01, Annex B and Annex C respectively.

Data:

catch/effort

12. For the purpose of implementing this conservation measure in the 2003/04 season, the following shall apply:

(i) the Five-day Catch and Effort Reporting System set out in Conservation Measure 23-01;

(ii) the Monthly Fine-scale Catch and Effort Reporting System set out

in Conservation Measure 23-04. Fine-scale data shall be submitted on a haul-by-haul basis.

13. For the purpose of Conservation Measures 23-01 and 23-04, the target species is Dissostichus spp. and by-catch species are defined as any species other than Dissostichus spp.

Data:

biological

14. Fine-scale biological data, as required under Conservation Measure 23-05, shall be collected and recorded. Such data shall be reported in accordance with the Scheme of International Scientific Observation.

CONSERVATION MEASURE 42-01 (2003)

Limits on the Fishery for Champsocephalus gunnari in Statistical Subarea 48.3 in the 2003/04 Season

The Commission hereby adopts the following conservation measure in accordance with Conservation Measure 31-01:

Access 1. The fishery for Champsocephalus gunnari in Statistical Subarea 48.3 shall be conducted by vessels using trawls only. The use of bottom trawls in the directed fishery for Champsocephalus gunnari in Statistical Subarea 48.3 is prohibited.

2. Fishing for Champsocephalus gunnari shall be prohibited within 12 n miles of the coast of South Georgia during the period 1 March to 31 May (spawning period).

Catch limit 3. The total catch of Champsocephalus gunnari in Statistical Subarea 48.3 in the 2003/04 season shall be limited to 2 887 tons. The total catch of Champsocephalus gunnari taken in the period 1 March to 31 May shall be limited to 722 tons.

4. Where any haul contains more than 100 kg of Champsocephalus gunnari, and more than 10% of the Champsocephalus gunnari by number are smaller than 240 mm total length, the fishing vessel shall move to another fishing location at least 5 n miles distant1. The fishing vessel shall not return to any point within 5 n miles of the location where the catch of small Champsocephalus gunnari exceeded 10%, for a period of at least five days²⁹. The location where the catch of small Champsocephalus gunnari exceeded 10% is defined as the path followed by the fishing vessel from the point at which the fishing gear was first deployed from the fishing vessel to the point at which the fishing gear was retrieved by the fishing vessel.

²⁹ This provision concerning the minimum distance separating fishing locations is adopted pending the adoption of a more appropriate definition of a fishing location by the Commission.

Season 5. For the purpose of the trawl fishery for Champsocephalus gunnari in Statistical Subarea 48.3, the 2003/04 season is defined as the period from 1 December 2003 to 30 November 2004, or until the catch limit is reached, whichever is sooner.

By-catch 6. The by-catch in this fishery shall be regulated as set out in Conservation Measure 33-01. If, in the course of the directed fishery for Champsocephalus gunnari, the by-catch in any one haul of any of the species named in Conservation Measure 33-01.

•is greater than 100 kg and exceeds 5% of the total catch of all fish by weight, or

•is equal to or greater than 2 tons, then the fishing vessel shall move to another location at least 5 n miles distant1. The fishing vessel shall not return to any point within 5 n miles of the location where the by-catch of species named in Conservation Measure 33-01 exceeded 5% for a period of at least five days³⁰. The location where the by-catch exceeded 5% is defined as the path followed by the fishing vessel from the point at which the fishing gear was first deployed from the fishing vessel to the point at which the fishing gear was retrieved by the fishing vessel.

³⁰§ The specified period is adopted in accordance with the reporting period specified in Conservation Measure 23-01, pending the adoption of a more appropriate period by the Commission.

Mitigation 7. The operation of this fishery shall be carried out in accordance with Conservation Measure 25-03 so as to minimize the incidental mortality of seabirds in the course of the fishery.

8. Should any vessel catch a total of 20 seabirds, it shall cease fishing and shall be excluded from further participation in the fishery in the 2003/04 season.

Observers 9. Each vessel participating in this fishery shall have at least one scientific observer appointed in accordance with the CCAMLR Scheme of International Scientific Observation, and where possible one additional scientific observer, on board throughout all fishing activities within the fishing period.

Data:

catch/effort

10. For the purpose of implementing this conservation measure in the 2003/04 season, the following shall apply:

(i) the Five-day Catch and Effort Reporting System set out in Conservation Measure 23-01;

(ii) the Monthly Fine-scale Catch and Effort Reporting System set out in Conservation Measure 23-04. Fine-scale data shall be submitted on a haul-by-haul basis.

11. For the purpose of Conservation Measures 23-01 and 23-04, the target species is Champsocephalus gunnari and by-catch species are defined as any species other than Champsocephalus gunnari.

Data:

biological

12. Fine-scale biological data, as required under Conservation Measure 23-05, shall be collected and recorded. Such data shall be reported in accordance with the Scheme of International Scientific Observation.

Research 13. Each vessel operating in this fishery during the period 1 March to 31 May 2004 shall conduct twenty (20) research trawls in the manner described in Annex 42-01/A.

ANNEX 42-01/A

RESEARCH TRAWLS DURING SPAWNING SEASON

1. All fishing vessels taking part in the fishery for Champsocephalus gunnari in Statistical Subarea 48.3 between 1 March and 31 May shall be required to conduct a minimum of 20 research hauls, to be completed during that period. Twelve research hauls shall be carried out in the Shag Rocks-Black Rocks area. These shall be distributed between the four sectors illustrated in Figure 1: four each in the NW and SE sectors, and two each in the NE and SW sectors. A further eight research hauls shall be conducted on the northwestern shelf of South Georgia over water less than 300 m deep.

2. Each research haul must be at least 5 n miles distant from all others. The spacing of stations is intended to be such that both areas are adequately covered in order to provide information on the length, sex, maturity and weight composition of Champsocephalus gunnari.

3. If concentrations of fish are located en route to South Georgia, they should be fished in addition to the research hauls.

4. The duration of research hauls must be of a minimum of 30 minutes with the net at fishing depth. During the day, the net must be fished close to the bottom.

5. The catch of all research hauls shall be sampled by the international scientific observer on board. Samples should aim to comprise at least 100 fish, sampled using standard random sampling techniques. All fish in the sample should be at least examined for length, sex and maturity determination, and where possible weight. More fish should be examined if the catch is large and time permits.

CONSERVATION MEASURE 42-02 (2003)

Limits on the Fishery for Champsocephalus gunnari in Statistical Division 58.5.2 in the 2003/04 Season

Access 1. The fishery for Champsocephalus gunnari in Statistical Division 58.5.2 shall be conducted by vessels using trawls only.

2. For the purpose of this fishery for Champsocephalus gunnari, the area open to the fishery is defined as that portion of Statistical Division 58.5.2 that lies within the area enclosed by a line:

(i) starting at the point where the meridian of longitude 72°15'E intersects the Australia-France Maritime Delimitation Agreement Boundary then south along the meridian to its intersection with the parallel of latitude 53°25'S;

(ii) then east along that parallel to its intersection with the meridian of longitude 74°E;

(iii) then northeasterly along the geodesic to the intersection of the parallel of latitude 52°40'S and the meridian of longitude 76°E;

(iv) then north along the meridian to its intersection with the parallel of latitude 52°S;

(v) then northwesterly along the geodesic to the intersection of the parallel of latitude 51°S with the meridian of longitude 74°30'E;

(vi) then southwesterly along the geodesic to the point of commencement.

3. A chart illustrating the above definition is appended to this conservation measure (Annex 42-02/A). Areas in Statistical Division 58.5.2 outside that defined above shall be closed to directed fishing for Champsocephalus gunnari.

Catch limit 4. The total catch of Champsocephalus gunnari in Statistical Division 58.5.2 in the 2003/04 season shall be limited to 292 tons.

5. Where any haul contains more than 100 kg of Champsocephalus gunnari, and more than 10% of the Champsocephalus gunnari by number are smaller than the specified minimum legal total length, the fishing vessel shall move to another fishing location at least 5 n miles distant³¹. The fishing vessel shall not return to any point within 5 n miles of the location where the catch of small Champsocephalus gunnari exceeded 10% for a period of at least five days³². The location where the catch of small Champsocephalus gunnari exceeded 10% is defined as the path followed by the fishing vessel from the point at which the fishing gear was first deployed from the fishing vessel to the point at which the fishing gear was retrieved by the fishing vessel. From the 1 December 2003 to 30 April 2004 the minimum legal total length shall be 240 mm. From 1 May 2004 to 30 November 2004 the minimum legal length shall be 290 mm.

³¹ This provision concerning the minimum distance separating fishing locations is adopted pending the adoption of a more appropriate definition of a fishing location by the Commission.

³² The specified period is adopted in accordance with the reporting period specified in Conservation Measure 23-01, pending the adoption of a more appropriate period by the Commission.

Season 6. For the purpose of the trawl fishery for Champsocephalus gunnari in Statistical Division 58.5.2, the 2003/04 season is defined as the period from 1 December 2003 to 30 November 2004, or until the catch limit is reached, whichever is sooner. By-catch 7. Fishing shall cease if the by-catch of any species reaches its by-catch limit as set out in Conservation Measure 33-02.

Mitigation 8. The operation of this fishery shall be carried out in accordance with Conservation Measure 25-03 so as to minimize the incidental mortality of seabirds in the course of fishing.Observers 9. Each vessel participating in this fishery shall have at least one scientific observer, and may include one appointed in accordance with the CCAMLR Scheme of International Scientific Observation, on board throughout all fishing activities within the fishing period.

Data:

catch/effort

10. For the purpose of implementing this conservation measure in the 2003/04 season, the following shall apply:

(i) the Ten-day Catch and Effort Reporting System set out in Annex 42-02/B;

(ii) the Monthly Fine-scale Catch and Effort Reporting System set out in Annex 42-02/B. Fine-scale data shall be submitted on a haul-by-haul basis.

11. For the purpose of Annex 42-02/B, the target species is Champsocephalus gunnari and by-catch species are defined as any species other than Champsocephalus gunnari.

Data:

biological

12. Fine-scale biological data, as required under Annex 42-02/B, shall be collected and recorded. Such data shall be reported in accordance with the Scheme of International Scientific Observation.

ANNEX 42-02/B

DATA REPORTING SYSTEM

A ten-day catch and effort reporting system shall be implemented:

(i) for the purpose of implementing this system, the calendar month shall be divided into three reporting periods, viz: day 1 to day 10, day 11 to day 20 and day 21 to the last day of the month. The reporting periods are hereafter referred to as periods A, B and C;

(ii) at the end of each reporting period, each Contracting Party participating in the fishery shall obtain from each of its vessels information on total catch and total days and hours fished for that period and shall, by cable, telex, facsimile or electronic transmission, transmit the aggregated catch and days and hours fished for its vessels so as to reach the Executive Secretary no later than the end of the next reporting period;

(iii) a report must be submitted by every Contracting Party taking part in the fishery for each reporting period for the duration of the fishery, even if no catches are taken;

(iv) the catch of Champsocephalus gunnari and of all by-catch species must be reported;

(v) such reports shall specify the month and reporting period (A, B and C) to which each report refers;

(vi) immediately after the deadline has passed for receipt of the reports for each period, the Executive Secretary shall notify all Contracting Parties engaged in fishing activities in the division of the total catch taken during the reporting period and the total aggregate catch for the season to date;

(vii) at the end of every three reporting periods, the Executive Secretary shall inform all Contracting Parties of the total catch taken during the three most recent reporting periods and the total aggregate catch for the season to date.

A fine-scale catch, effort and biological data reporting system shall be implemented:

(i) the scientific observer(s) aboard each vessel shall collect the data required to complete the CCAMLR fine-scale catch and effort data form C1, latest version.

These data shall be submitted to the CCAMLR Secretariat not later than one month after the vessel returns to port;

(ii) the catch of Champsocephalus gunnari and of all by-catch species must be reported;

(iii) the numbers of seabirds and marine mammals of each species caught and released or killed must be reported;

(iv) the scientific observer(s) aboard each vessel shall collect data on the length composition from representative samples of Champsocephalus gunnari and by-catch species:

(a) length measurements shall be to the nearest centimeter below;

(b) representative samples of length composition shall be taken from each fine-scale grid rectangle (0.5° latitude by 1° longitude) fished in each calendar month;

(v) the above data shall be submitted to the CCAMLR Secretariat not later than one month after the vessel returns to port.

CONSERVATION MEASURE 43-02 (2003)

Limits on the Exploratory Fishery for Macrourus spp. on Elan Bank (Statistical Division 58.4.3a) outside Areas of National Jurisdiction in the 2003/04 Season

The Commission hereby adopts the following conservation measure in accordance with Conservation Measure 21-02:

Access 1. Fishing for Macrourus spp. on Elan Bank (Statistical Division 58.4.3a) outside areas of national jurisdiction shall be limited to the exploratory trawl fishery by Australia. The fishery shall be conducted by one Australian flagged vessel.

Catch limit 2. The total catch of Macrourus spp. on Elan Bank (Statistical Division 58.4.3a) outside areas of national jurisdiction in the 2003/04 season shall not exceed a precautionary catch limit of 26 tons.

Season 3. For the purpose of the exploratory trawl fishery for Macrourus spp. on Elan Bank (Statistical Division 58.4.3a) outside areas of national jurisdiction, the 2003/04 season is defined as the period from 1 December 2003 to 30 November 2004 , or until the catch limit is reached, whichever is sooner.

By-catch 4. The by-catch in this fishery shall be regulated as set out in Conservation Measure 33-03.

Mitigation 5. The operation of this fishery shall be carried out in accordance with Conservation Measure 25-03 so as to minimize the incidental mortality of seabirds in the course of fishing.

Observers 6. Each vessel participating in this fishery shall have at least one scientific observer appointed in accordance with the CCAMLR Scheme of International Scientific Observation, and where possible one additional scientific observer, on board throughout all fishing activities within the fishing period.

Data:

catch/effort

7. For the purpose of implementing this conservation measure in the 2003/04 season, the following shall apply:

(i) the Five-day Catch and Effort Reporting System set out in Conservation Measure 23-01;

(ii) the Monthly Fine-scale Catch and Effort Reporting System set out in Conservation Measure 23-04. Fine-scale data shall be submitted on a haul-by-haul basis.

8. For the purpose of Conservation Measures 23-01 and 23-04, the target species is Macrourus spp. and by-catch species are defined as any species other than Macrourus spp. Any catch of Dissostichus spp. shall be subtracted from the catch limit for Dissostichus spp. specified in Conservation Measure 41-06.

Data:

biological

9. Fine-scale biological data, as required under Conservation Measure 23-05, shall be collected and recorded. Such data shall be reported in accordance with the Scheme of International Scientific Observation.

Research

10. Each vessel participating in this exploratory fishery shall conduct fishery based research in accordance with the research plan described in Conservation Measure 41-01, Annex B.

CONSERVATION MEASURE 43-03 (2003)

Limits on the Exploratory Fishery for Macrourus spp. On BANZARE Bank (Statistical Division 58.4.3b) outside Areas of National Jurisdiction in the 2003/04 Season

The Commission hereby adopts the following conservation measure in accordance with Conservation Measure 21-02:

Access 1. Fishing for Macrourus spp. on BANZARE Bank (Statistical Division 58.4.3b) outside areas of national jurisdiction shall be limited to the exploratory trawl fishery by Australia. The fishery shall be conducted by one Australian flagged vessel.

Catch limit 2. The total catch of Macrourus spp. on BANZARE Bank (Statistical Division 58.4.3b) outside areas of national jurisdiction in the 2003/04 season shall not exceed a precautionary catch limit of 159 tons.

Season 3. For the purpose of the exploratory trawl fishery for Macrourus spp. on BANZARE Bank (Statistical Division 58.4.3b) outside areas of national jurisdiction, the 2003/04 season is defined as the period from 1 December 2003 to 30 November 2004, or until the catch limit is reached, whichever is sooner.

By-catch 4. The by-catch in this fishery shall be regulated as set out in Conservation Measure 33-03.

Mitigation 5. The operation of this fishery shall be carried out in accordance with Conservation Measure 25-03 so as to minimize the incidental mortality of seabirds in the course of fishing.

Observers 6. Each vessel participating in this fishery shall have at least one scientific observer appointed in accordance with the CCAMLR Scheme of International Scientific Observation, and where possible one additional scientific observer, on board throughout all fishing activities within the fishing period.

Data:

catch/effort

7. For the purpose of implementing this conservation measure in the 2003/04 season, the following shall apply:

(i) the Five-day Catch and Effort Reporting System set out in Conservation Measure 23-01;

(ii) the Monthly Fine-scale Catch and Effort Reporting System set out in Conservation Measure 23-04. Fine-scale data shall be submitted on a haul-by-haul basis.

8. For the purpose of Conservation Measures 23-01 and 23-04, the target species is Macrourus spp. and by-catch species are defined as any species other than Macrourus spp. Any catch of Dissostichus spp. shall be subtracted from the catch limit for Dissostichus spp. specified in Conservation Measure 41-07.

Data:

biological

9. Fine-scale biological data, as required under Conservation

Measure 23-05, shall be collected and recorded. Such data shall be reported in accordance with the Scheme of International Scientific Observation.

Research 10. Each vessel participating in this exploratory fishery shall conduct fishery-based research in accordance with the research plan described in Conservation Measure 41-01, Annex B.

Conservation Measure 43-04 (2003)

Limits on the Exploratory Fishery for Chaenodraco wilsoni, Lepidonotothen kempi, Trematomus eulepidotus and Pleuragramma antarcticum in Statistical Division 58.4.2 in the 2003/04 Season

The Commission hereby adopts the following conservation measure in accordance with Conservation Measure 21-02, and notes that this measure would be for one year and that data arising from these activities would be reviewed by the Scientific Committee in 2004:

Access 1. Fishing for Chaenodraco wilsoni, Lepidonotothen kempi, Trematomus eulepidotus and Pleuragramma antarcticum in Statistical Division 58.4.2 shall be limited to the exploratory trawl fishery by Russia.The fishery shall be conducted by one Russian-flagged vessel using trawls only.

Catch limit 2. The total catch of all species in the 2003/04 season shall not exceed a precautionary catch limit of 2 000 tons.

3. The catch of Chaenodraco wilsoni in the 2003/04 season shall be taken by the midwater trawl method only, except for the research program on shallow-water bottom trawling specified in paragraph 4 of Annex 43-04/A of this conservation measure, and shall not exceed 1 000 tons.

4. The catches of Lepidonotothen kempi, Trematomus eulepidotus and Pleuragramma antarcticum in the 2003/04 season shall be taken by the midwater trawl method only, except for the research program on shallow-water bottom trawling specified in paragraph 4 of Annex 43-04/A of this conservation measure, and shall not exceed 500 tons for any one species.

5. Any Dissostichus spp. or Macrourus spp. caught during the directed fishery for the above species shall be deducted from the catches of these species authorized in Conservation Measure 41-05.

Season 6. For the purpose of the exploratory trawl fishery for Chaenodraco wilsoni, Lepidonotothen kempi, Trematomus eulepidotus and Pleuragramma antarcticum in Statistical Division 58.4.2, the 2003/04 season is defined as the period from 1 December 2003 to 30 November 2004, or until the catch limit is reached, whichever is sooner.

By-catch 7. The by-catch in this fishery shall be regulated as set out in Conservation Measure 33-03.

Mitigation 8. The operation of this fishery shall be carried out in accordance with Conservation Measure 25-03 so as to minimize the incidental mortality of seabirds in the course of fishing.

Observers 9. The vessel participating in this fishery shall have at least one scientific observer appointed in accordance with the CCAMLR Scheme of International Scientific Observation, and where possible one additional scientific observer, on board throughout all fishing activities within the fishing period.

Data:

catch/effort

10. For the purpose of implementing this conservation measure in the 2003/04 season, the following shall apply:

(i) the Five-day Catch and Effort Reporting System set out in Conservation Measure 23-01;

(ii) the Monthly Fine-scale Catch and Effort Reporting System set out in Conservation Measures 23-03. Fine-scale data shall be submitted on a haul-by-haul basis.

11. For the purpose of Conservation Measures 23-01 and 23-03, the target species are Chaenodraco wilsoni, Lepidonotothen kempi, Trematomus eulepidotus and Pleuragramma antarcticum and by-catch species are defined as any species other than these species.

Data:

biological

12. Fine-scale biological data, as required under Conservation Measure 23-05 shall be collected and recorded. Such data shall be reported in accordance with the System of International Scientific Observation.

Research 13. The vessel participating in this exploratory fishery shall conduct fishery-based research in accordance with the Research and Data Collection Plans described in Annex 43-04/A. The results shall be reported to CCAMLR not later than three months after the closure of the fishery.

ANNEX 43-04/A

RESEARCH AND DATA COLLECTION PLANS

1. The small-scale research units (SSRUs) for this fishery will be those specified in Annex B of Conservation Measure 41-01.

2. The vessel undertaking prospecting or commercial fishing in any SSRU must undertake the following research activities once 10 tons of any one species have been caught, irrespective of the number of hauls required:

(i) a minimum of 20 hauls must be made within the SSRU and must collectively satisfy the criteria specified in subparagraphs (ii) to (iv);

(ii) each haul must be separated by not less than 5 n miles from any other haul, distance to be measured from the geographical mid-point of each haul;

(iii) each haul shall comprise at least 30 minutes effective fishing time as defined in the Draft Manual for Bottom Trawl Surveys in the Convention Area(SC-CAMLR-XI, Annex 5, Appendix H, Attachment E, paragraph 4);

(iv) all data specified in the paragraph 4 of this annex shall be collected for every research haul; in particular, all fish in a research haul up to 100 fish are to be measured and biological characteristics obtained from 30 fish, where more than 100 fish are caught, a method for randomly subsampling the fish should be applied.

3. The requirement to undertake the above research activities applies irrespective of the period over which the trigger levels of 10 tons of catch in any SSRU are achieved during the 2003/04 fishing season. The research activities must commence immediately the trigger levels have been reached and must be completed before the vessel leaves the SSRU.

4. In each SSRU and in locations where the bottom depth is 280 m or less:

(i) a maximum total of 20 commercial bottom trawls may be conducted in no more than 10 locations, but with no more than four bottom trawls in any one location;

(ii) each location must be at least 5 n miles distant from any other location;

(iii) at each location trawled, three separate samples will be taken with a beam trawl in the vicinity of the commercial trawl track to assess the benthos present and compare with the benthos brought up in the commercial trawl;

(iv) catches from this program will not count towards the value that triggers the 20 research shots in an SSRU as defined in paragraph 2 above.

5. The following data and material will be collected from research and commercial hauls, as required by the CCAMLR Scientific Observers Manual:

(i) position, date and depth at the start and end of every haul;

(ii) haul-by haul catch and catch per effort by species;

(iii) haul-by haul length frequency of common species;

(iv) sex and gonad state of common species;

(v) diet and stomach fullness;

(vi) scales and/or otoliths for age determination;

(vii) by-catch of fish and other organisms;

(viii) observations on the occurrence of seabirds and mammals in relation to fishing operations, and details of any incidental mortality of these animals.

CONSERVATION MEASURE 52-01 (2003)

Limits on the Fishery for Crab in Statistical Subarea 48.3 in the 2003/04 Season

The Commission hereby adopts the following conservation measure in accordance with Conservation Measure 31-01:

Access 1. The fishery for crab in Statistical Subarea 48.3 shall be conducted by vessels using pots only. The crab fishery is defined as any commercial harvest activity in which the target species is any member of the crab group (Order Decapoda, Suborder Reptantia).

2. The crab fishery shall be limited to one vessel per Member.

3. Each Member intending to participate in the crab fishery shall notify the CCAMLR Secretariat at least three months in advance of starting fishing of the name, type, size, registration number, radio call sign, and research and fishing operations plan of the vessel that the Member has authorized to participate in the crab fishery.

Catch limit 4. The total catch of crab in Statistical Subarea 48.3 in the 2003/04 season shall not exceed a precautionary catch limit of 1 600 tons.

5. The crab fishery shall be limited to sexually mature male crabs - all female and undersized male crabs caught shall be released unharmed. In the case of Paralomis spinosissima and Paralomis formosa, males with a minimum carapace width of 94 mm and 90 mm, respectively, may be retained in the catch.

Season 6. For the purpose of the pot fishery for crab in Statistical Subarea 48.3, the 2003/04 season is defined as the period from 1 December 2003 to 30 November 2004, or until the catch limit is reached, whichever is sooner.

By-catch 7. The by-catch of Dissostichus eleginoides shall be counted against the catch limit in the fishery for Dissostichus eleginoides in Statistical Subarea 48.3.

Observers 8. Each vessel participating in this fishery shall have at least one scientific observer appointed in accordance with the CCAMLR Scheme of International Scientific Observation, and where possible one additional scientific observer, on board throughout all fishing activities within the fishing period. Scientific observers shall be afforded unrestricted access to the catch for statistical random sampling prior to, as well as after, sorting by the crew.

Data:

catch/effort

9. For the purpose of implementing this conservation measure in the 2003/04 season, the following shall apply:

(i) the Ten-day Catch and Effort Reporting System set out in Conservation Measure 23-02;

(ii) the Monthly Fine-scale Catch and Effort Reporting System set out in Conservation Measure 23-04. Fine-scale data shall be submitted on a haul-by-haul basis.

10. For the purpose of Conservation Measures 23-02 and 23-04 the target species is crab and by-catch species are defined as any species other than crab.

Data:

biological

11. Fine-scale biological data, as required under Conservation Measure 23-05, shall be collected and recorded. Such data shall be reported in accordance with the Scheme of International Scientific Observation.

Research

12. Each vessel participating in this exploratory fishery shall conduct

fishery-based research in accordance with the data requirements described in Annex 52-01/A and the experimental harvest regime described in Conservation Measure 52-02. Data collected for the period up to 31 August 2004 shall be reported to CCAMLR by 30 September 2004 so that the data will be available to the meeting of the Working Group on Fish Stock Assessment in 2004. Such data collected after 31 August shall be reported to CCAMLR not later than three months after the closure of the fishery.

ANNEX 52-01/A

DATA REQUIREMENTS ON THE CRAB FISHERY IN STATISTICAL SUBAREA 48.3

Catch and Effort Data:

Cruise Descriptions

cruise code, vessel code, permit number, year.

Pot Descriptions

diagrams and other information, including pot shape, dimensions, mesh size, funnel

position, aperture and orientation, number of chambers, presence of an escape port.

Effort Descriptions

date, time, latitude and longitude of the start of the set, compass bearing of the set, total number of pots set, spacing of pots on the line, number of pots lost, depth, soak time, bait type.

Catch Descriptions

retained catch in numbers and weight, by-catch of all species (see Table 1), incremental record number for linking with sample information.

Biological Data:

For these data, crabs are to be sampled from the line hauled just prior to noon, by collecting the entire contents of a number of pots spaced at intervals along the line so that between 35 and 50 specimens are represented in the subsample.

Cruise Descriptions

cruise code, vessel code, permit number.

Sample Descriptions

date, position at start of the set, compass bearing of the set, line number.

Data

species, sex, length of at least 35 individuals, presence/absence of rhizocephalan parasites, record of the destination of the crab (kept, discarded, destroyed), record of the pot number from which the crab comes.

CONSERVATION MEASURE 52-02 (2003)

Experimental Harvest Regime for the Crab Fishery in Statistical Subarea 48.3 in the 2003/04 Season

The following measures apply to all crab fishing within Statistical Subarea 48.3 in the 2003/04 fishing season. Every vessel participating in the crab fishery in Statistical Subarea 48.3 shall conduct fishing operations in accordance with an experimental harvest regime as outlined below:

1. Vessels shall conduct the experimental harvest regime in the 2003/04 season at the start of their first season of participation in the crab fishery and the following conditions shall apply:

(i) every vessel when undertaking an experimental harvesting regime shall expend its first 200 000 pot hours of effort within a total area delineated by twelve blocks of 0.5° latitude by 1.0° longitude. For the purposes of this conservation measure, these blocks shall be numbered A to L. In Annex 52-02/A, the blocks are illustrated (Figure 1), and the geographic position is denoted by the coordinates of the northeast corner of the block. For each string, pot hours shall be calculated by taking the total number of pots on the string and multiplying that number by the soak time (in hours) for that string. Soak time shall be defined for each string as the time between start of setting and start of hauling;

(ii) vessels shall not fish outside the area delineated by the 0.5° latitude by 1.0° longitude blocks prior to completing the experimental harvesting regime;

(iii) vessels shall not expend more than 30 000 pot hours in any single block of 0.5° latitude by 1.0° longitude;

(iv) if a vessel returns to port before it has expended 200 000 pot hours in the experimental harvesting regime the remaining pot hours shall be expended before it can be considered that the vessel has completed the experimental harvesting regime;

(v) after completing 200 000 pot hours of experimental fishing, it shall be considered that vessels have completed the experimental harvesting regime and they shall be permitted to commence fishing in a normal fashion.

2. Data collected during the experimental harvest regime up to 30 June 2004 shall be submitted to CCAMLR by 31 August 2004.

3. Normal fishing operations shall be conducted in accordance with the regulations set out in Conservation Measure 52-01.

4. For the purposes of implementing normal fishing operations after completion of the experimental harvest regime, the Ten-day Catch and Effort Reporting System set out in Conservation Measure 23-02 shall apply.

5. Vessels that complete experimental harvest regime shall not be required to conduct experimental fishing in future seasons. However, these vessels shall abide by the guidelines set forth in Conservation Measure 52-01.

6. Fishing vessels shall participate in the experimental harvest regime independently (i.e. vessels may not cooperate to complete phases of the experiment).

7. Crabs taken by any vessel for research purposes will be considered as part of any catch limits in force for each species taken, and shall be reported to CCAMLR as part of the annual STATLANT returns.

8. All vessels participating in the experimental harvest regime shall carry at least one scientific observer on board during all fishing activities.

CONSERVATION MEASURE 61-01 (2003)

Limits on the Exploratory Fishery for Martialia hyadesi in Statistical Subarea 48.3 in the 2003/04 Season

The Commission hereby adopts the following conservation measure in accordance with Conservation Measures 21-02 and 31-01:

Access 1. Fishing for Martialia hyadesi in Statistical Subarea 48.3 shall be limited to the exploratory jig fishery by notifying countries. The fishery shall be conducted by vessels using jigs only.

Catch limit 2. The total catch of Martialia hyadesi in Statistical Subarea 48.3 in the 2003/04 season shall not exceed a precautionary catch limit of 2 500 tons.

Season 3. For the purpose of the exploratory jig fishery for Martialia hyadesi in Statistical Subarea 48.3, the 2003/04 season is defined as the period from 1 December 2003 to 30 November 2004, or until the catch limit is reached, whichever is sooner.

Observers 4. Each vessel participating in this fishery shall have at least one scientific observer appointed in accordance with the CCAMLR Scheme of International Scientific Observation, and where possible one additional scientific observer, on board throughout all fishing activities within the fishing period.

Data:

catch/effort

5. For the purpose of implementing this conservation measure in the 2003/04 season, the following shall apply:

(i) the Ten-day Catch and Effort Reporting System set out in Conservation Measure 23-02;

(ii) the Monthly Fine-scale Catch and Effort Reporting System set out in Conservation Measure 23-04. Fine-scale data shall be submitted on a haul-by-haul basis.

6. For the purpose of Conservation Measures 23-02 and 23-04, the target species is Martialia hyadesi and by-catch species are defined as any species other than Martialia hyadesi.

Data:

biological

7. Fine-scale biological data, as required under Conservation Measure 23-05, shall be collected and recorded. Such data shall be reported in accordance with the Scheme of International Scientific Observation.

Research 8. Each vessel participating in this exploratory fishery shall collect data in accordance with the Data Collection Plan described in Annex 61-01/A.

Data collected pursuant to the plan for the period up to 31 August 2004 shall be reported to CCAMLR by 30 September 2004 so that the data will be available to the meeting of the Working Group on Fish Stock Assessment in 2004.

ANNEX 61-01/A

DATA COLLECTION PLAN FOR EXPLORATORY SQUID (MARTIALIA HYADESI) FISHERIES IN STATISTICAL SUBAREA 48.3

1. All vessels will comply with conditions set by CCAMLR. These include data required to complete the data form (Form TAC) for the Ten-day Catch and Effort Reporting System, as specified by Conservation Measure 23-02; and data required to complete the CCAMLR standard fine-scale catch and effort data form for a squid jig fishery (Form C3). This includes numbers of seabirds and marine mammals of each species caught and released or killed.

2. All data required by the CCAMLR Scientific Observers Manual for squid fisheries will be collected. These include:

(i) vessel and observer program details (Form S1);

(ii) catch information (Form S2);

(iii) biological data (Form S3).

RESOLUTION 15/XXII

Use of Ports not Implementing the Catch Documentation Scheme for Dissostichus spp.

The Commission,

Noting that a number of Acceding States and non-Contracting Parties not participating in the Catch Documentation Scheme for Dissostichus spp., as set out in Conservation Measure 10-05, continue to trade in Dissostichus spp.;

Recognizing that these Acceding States and non-Contracting Parties thus do not participate in the landing procedures for Dissostichus spp. accompanied by Dissostichus Catch Documents;

Urges Contracting Parties,

When licensing a vessel to fish for Dissostichus spp. either inside the Convention Area under Conservation Measure 10-02, or on the high seas, to require, as a condition of that license, that the vessel should land catches only in States that are fully implementing the CDS; and to attach to the license³³ a list of all Acceding States and non-Contracting Parties that are fully implementing the Catch Documentation Scheme.

³³ Includes permits and authorizations

RESOLUTION 20/XXII

Ice-Strengthening Standards in High-Latitude Fisheries³⁴

³⁴ Subareas and divisions south of 60°S and adjacent to the Antarctic continent.

The Commission

Recognizing the unique circumstances in high-latitude fisheries, especially the extensive ice coverage which can pose a risk to fishing vessels operating in those fisheries,

Recognizing also that the safety of fishing vessels, crew and CCAMLR scientific observers is a significant concern of all Members,

Further recognizing the difficulties of search and rescue response in high-latitude fisheries,

Concerned that collisions with ice could result in oil spills and other adverse consequences for Antarctic marine living resources and the pristine Antarctic environment,

Considering that vessels fishing in high-latitude fisheries should be suitable for ice conditions,

Urges Members to license to fish in high-latitude fisheries only those of their flag vessels with a minimum ice classification standard of ICE-1C³⁵ which will remain current for the duration of the planned fishing activity.

³⁵ As defined in the Det Norske Veritas (DNV) Rules for Classification of Ships or an equivalent standard of certification as defined by a recognized classification authority.

Dated: December 10, 2003.
Margaret F. Hayes,
Director, Office of Oceans Affairs, Bureau of Oceans, International Environmental and Scientific Affairs, Department of State.

[FR Doc. 03-31229 Filed 12-17-03; 8:45 am]

BILLING CODE 3510-22-S